EQUAL EMPLOYMENT OPPORTUNITY COMMISSION

Privacy Act of 1974; Publication of Notices of Systems of Records and Proposed New Systems of Records

AGENCY: Equal Employment Opportunity Commission.

ACTION: Notice; publication of notices of systems of records, and proposed new systems of records.

SUMMARY: This notice proposes one new system of records, changes to a number of existing systems of records, and removes obsolete systems of records. This notice republishes all of EEOC's notices for its systems of records subject to the Privacy Act in one issue of the Federal Register so that an accurate and complete text of the notices is available for use by individuals and by agency Privacy Act officers.

DATES: The changes to the existing systems of records are effective on November 17, 2016. The proposed new system of records will become effective, without further notice, on January 17, 2017 unless comments dictate otherwise.

ADDRESSES: Comments on this notice may be submitted to the EEOC in three ways; please use only one.

• Comments and attachments may be submitted online at http://www.regulations.gov, which is the Federal eRulemaking Portal. Follow the instructions on the Web site for submitting comments. Comments received here will be posted publicly on the same portal without change, including any personal information you provide. However, the EEOC reserves the right to refrain from posting comments: That contain obscene, indecent, or profane language; that contain threats or defamatory statements; that contain hate speech directed at race, color, sex, sexual orientation, national origin, ethnicity, age, religion, or disability; or that promote or endorse services or products.

• Hard copy comments may be submitted to Bernadette Wilson, Acting Executive Officer, Executive Secretariat, Equal Employment Opportunity Commission, 131 M Street NE., Washington, DC 20507.

• The Executive Secretariat also will accept documents totaling six or fewer pages by facsimile (“fax”) machine. This limitation is necessary to assure access to the equipment. The telephone number of the fax receiver is (202) 663-4114. (This is not a toll-free number.) Receipt of fax transmittals will not be acknowledged, except that the sender may request confirmation of receipt by calling the Executive Secretariat staff at (202) 663-4070 (voice) or (202) 663-4074 (TTY). (These are not toll-free telephone numbers.)

Subject to the conditions noted above, the EEOC will post online at http://www.regulations.gov all comments submitted in hard copy or by fax with the Executive Secretariat. The EEOC Headquarters' library also will make available hard copies of all comments, by advance appointment only, between the hours of 9 a.m. and 5 p.m. Eastern Time. To schedule an appointment to inspect the comments at the EEOC's library, contact the library staff at (202) 663-4630 (voice) or (202) 663-4641 (TTY). (These are not toll-free numbers.)

Copies of this notice are available in the following alternate formats: Large print, braille, electronic file on computer disk, and audio-tape. Copies may be obtained from the Publications Center by calling 1-800-699-3362.

FOR FURTHER INFORMATION CONTACT: Thomas J. Schlageter, Assistant Legal Counsel, (202) 663-4668 (voice), Kathleen Oram, Senior Attorney (202) 663-4681 (voice), or Savannah Marion, (202) 663-4909 or (202) 663-7026 (TDD).

SUPPLEMENTARY INFORMATION: The Equal Employment Opportunity Commission last published its Privacy Act systems notices in 2002. The Commission proposes one new system of records to cover Freedom of Information Act and Privacy Act records. EEOC previously covered these records in its general correspondence system of records. The Commission is deleting EEOC-6 Employee Assistance Program records and EEOC-14 Employee Parking records because it no longer collects and keeps those records and is replacing EEOC-6 with the new Freedom of Information Act and Privacy Act Records system. The Employee Assistance Program records are now maintained by the Department of Health and Human Services, and Employee Parking records are maintained by a private building management company. In addition, the Commission is amending a number of its systems to recognize more widespread electronic storage, and remove requirements that persons submit social security numbers when requesting records. The Commission is adding a statement of general routine uses to include two new routine uses permitting disclosure of records from all of its systems of records for suspected or confirmed breach notification and response. The Commission is removing three obsolete routine uses from its Claims Collection Records notice and one routine use from its Internal Harassment Inquires Records notice. EEOC is adding a new routine use to its two Discrimination Case Files systems of records, a new routine use to its Internal Harassment Inquiries system of records, and one new routine use to its Office of Inspector General system of records. Finally, the Commission has amended several system notices to reflect current office names and has amended Appendix A to reflect current addresses of Commission offices. To ensure that users will have a copy of the current text of each of its system notices, the Commission is publishing the complete text of all of its systems notices.

A brief description of the major changes follows:

Universal Routine Uses: EEOC proposes to add two routine uses applicable to all systems of records. One would permit EEOC to disclose records reasonably necessary to respond to a suspected or confirmed breach of the system of records where EEOC determines there may be a risk of harm to individuals, EEOC, or the Federal government. The second proposed routine use would allow EEOC to disclose records to other Federal agencies to assist in their efforts to respond to a suspected or confirmed breach.

EEOC-1 Age and Equal Pay Act Discrimination Case Files and EEOC-3 Title VII, Americans with Disabilities Act, and Genetic Information Nondiscrimination Act Discrimination Case Files: A routine use that permits disclosure to other federal agencies in accordance with Memoranda of Understanding or similar agreements between EEOC and other agencies that provide for coordination and cooperation in EEOC's employment discrimination enforcement efforts is proposed. The retention and disposal sections are updated.

EEOC-3 Title VII, Americans with Disabilities Act, and Genetic Information Nondiscrimination Act Discrimination Case Files: The system was updated to add Genetic Information Nondiscrimination Act (GINA) files. A routine use that permits disclosure to other federal agencies in accordance with Memoranda of Understanding or similar agreements between EEOC and other agencies that provide for coordination and cooperation in EEOC's employment discrimination enforcement efforts is proposed.

EEOC 6 Freedom of Information Act and Privacy Act Records: This new system of records replaces the obsolete Employee Assistance Program Records system and covers all Freedom of Information Act (FOIA) and Privacy Act requests, administrative appeals, responses, and related records. These records were previously included in EEOC-5 Correspondence and Communications. Nine routine uses are proposed for the system.

EEOC-9 Claims Collection Records: Three obsolete routine uses are removed, as is an obsolete reference to consumer reporting agencies.

EEOC-14 Reserved: We have removed the Employee Parking Records system because those records are no longer collected by EEOC, but are collected by the private building management company at EEOC's headquarters building.

EEOC-15 Internal Harassment Inquiries: We have removed routine use (h) as unnecessary since disclosures could be made under the “need to know” exception. We propose to add a new routine use (h) to permit disclosures to the alleged harasser in the event of a disciplinary proceeding.

EEOC-16 Office of Inspector General Investigative Files: We propose a new routine use permitting disclosures during peer reviews.

EEOC-17 Defensive Litigation Files: The system is updated to reflect that internal defensive litigation files are maintained in the Office of General Counsel and external defensive litigation files are maintained in the Office of Legal Counsel.

EEOC-18 Reasonable Accommodation Records: We added notification procedures, record access procedures, contesting records procedures, and record source categories.

The proposed universal routine uses, the routine uses in the one new system of records noted above and the proposed new routine uses in two existing systems meet the compatibility criteria since the information involved is collected for the purpose of the applicable routine uses. We anticipate that any disclosure pursuant to these routine uses will not result in any unwarranted adverse effects on personal privacy.

A complete list of all EEOC systems of records is published below. The complete text of the notices follows.

For the Commission.
Jenny R. Yang,
Chair.

EEOC Systems of Records

Universal Routine Uses.

EEOC-1 Age Discrimination in Employment Act, Equal Pay Act, and Section 304 of the Government Employee Rights Act Discrimination Case Files.

EEOC-2 Attorney Referral List.

EEOC-3 Title VII, Americans with Disabilities Act, and Genetic Information Nondiscrimination Act

EEOC-4 Biographical Files.

EEOC-5 Correspondence and Communications.

EEOC-6 Freedom of Information Act and Privacy Act Records

EEOC-7 Employee Pay and Leave Records.

EEOC-8 Employee Travel and Reimbursement Records.

EEOC-9 Claims Collection Records.

EEOC-10 Grievance Records.

EEOC-11 Adverse Actions Against Nonpreference Eligibles in the Excepted Service Records

EEOC-12 Telephone Call Detail Records.

EEOC-13 Employee Identification Cards.

EEOC-14 Reserved

EEOC-15 Internal Harassment Investigation Files.

EEOC-16 Office of Inspector General Investigative Files.

EEOC-17 Defensive Litigation Files.

EEOC-18 Reasonable Accommodation Records.

EEOC-19 Revolving Fund Registrations.

EEOC-20 RESOLVE Program Records.

EEOC-21 Emergency Management Records.

EEOC-22 EEOC Personnel Security Records.

EEOC/GOVT-1 Equal Employment Opportunity in the Federal Government Complaint and Appeal Records.

Universal Routine Uses: The following routine uses of the records apply to and are incorporated by reference into each system of records published below:

a. To appropriate agencies, entities, and persons when: (1) EEOC suspects or has confirmed that there has been a breach of the system of records; (2) EEOC has determined that as a result of the suspected or confirmed breach there is a risk of harm to individuals, the agency (including its information systems, programs, and operations), or the Federal government; and (3) the disclosure made to such agencies, entities, and persons is reasonably necessary to assist in connection with EEOC's efforts to respond to the suspected or confirmed breach or to prevent, minimize, or remedy such harm.

b. To another Federal agency or Federal entity when information from this system of records is reasonably necessary to assist the recipient agency or entity in (1) responding to a suspected or confirmed breach or (2) preventing, minimizing, or remedying the risk of harm to individuals, the agency (including its information systems, programs, and operations), or the Federal government.

EEOC-1

SYSTEM NAME:

Age Discrimination in Employment Act, Equal Pay Act, and Section 304 of the Government Employee Rights Act Discrimination Case Files.

SYSTEM LOCATION:

Field Office where the charge or complaint of discrimination was filed (see Appendix A). Records of complaints filed under section 321 of the Government Employees Rights Act of 1991 are located in the Office of Federal Operations 131 M Street NE., Washington, DC 20507, after a hearing has been requested.

CATEGORIES OF INDIVIDUALS COVERED BY THE SYSTEM:

Persons other than federal employees and applicants who file charges or complaints with EEOC alleging that an employer, employment agency or labor organization has violated the Age Discrimination in Employment Act of 1967 or the Equal Pay Act of 1963, or who file complaints under section 304 of the Government Employees Rights Act of 1991.

CATEGORIES OF RECORDS IN THE SYSTEM:

This system contains the records compiled during the investigation of age and equal pay discrimination cases and during the investigation and hearing of complaints filed under section 304 of the Government Employees Rights Act of 1991. These records include:

a. Documents submitted by charging party or complainant such as charge of discrimination, personal interview statement, and correspondence.

b. Documents submitted by employer such as statement of position, correspondence, statements of witnesses, documentary evidence such as personnel files, records of earnings, employee benefit plans, seniority list, job titles and descriptions, applicant data, organizational charts, collective bargaining agreements, and petitions to revoke or modify subpoenas.

c. Records gathered and generated by EEOC in the course of its investigation and, in complaints filed under section 304 of the Government Employees Rights Act of 1991, during the hearing, such as letters of referral to state fair employment practices agencies, correspondence with state fair employment practices agencies, witness statements, investigator's notes, investigative plan, report of initial and exit interview, investigator's analyses of evidence and charge, subpoenas, decisions and letters of determination, conciliation agreements, correspondence and any additional evidence gathered during the course of the investigation.

AUTHORITY FOR MAINTENANCE OF THE SYSTEM:

5 U.S.C. 301; 29 U.S.C. 209, 211, 623, 626; 42 U.S.C. 2000e-16c; 44 U.S.C. 3101; 2 U.S.C. 1220.

PURPOSE:

This system is maintained for the purpose of enforcing the prohibitions against employment discrimination contained in the Age Discrimination in Employment Act, the Equal Pay Act and section 304 of the Government Employees Rights Act of 1991.

ROUTINE USES OF RECORDS MAINTAINED IN THE SYSTEM, INCLUDING CATEGORIES OF USERS AND THE PURPOSES OF SUCH USES:

These records and information in these records may be used:

a. To disclose pertinent information to a federal, state, or local agency or third party as may be appropriate or necessary to perform the Commission's functions under the Age Discrimination in Employment Act, Equal Pay Act, or section 304 of the Government Employee Rights Act of 1991.

b. To disclose information contained in these records to state and local agencies administering state or local fair employment practices laws.

c. To disclose non-confidential and non-privileged information from closed ADEA/EPA case files (a file is closed when the Commission has terminated its investigation and has decided not to sue) to the employer where a lawsuit has been filed against the employer involving that information, to other employees of the same employer who have been notified by the Commission of their right under 29 U.S.C. 216 to file a lawsuit on their own behalf, and their representatives.

d. To provide information to a congressional office from the record of an individual in response to an inquiry from the congressional office made at the request of a party to the charge.

e. To disclose pertinent information to the appropriate federal, state, or local agency responsible for investigating, prosecuting, enforcing, or implementing a statute, rule, regulation, or order, where the EEOC becomes aware of an indication of a violation or potential violation of civil or criminal law or regulation.

f. To disclose information to another federal agency, to a court, or to a party in litigation before a court or in an administrative proceeding being conducted by a federal agency when the government is a party to the judicial or administrative proceeding.

g. To disclose information to officials of state or local bar associations or disciplinary boards or committees when they are investigating complaints against attorneys in connection with their representation of a party before EEOC.

h. To disclose to a Federal agency in the executive, legislative, or judicial branch of government, in response to its request for information in connection with the hiring of an employee, the issuance of a security clearance, the conducting of a security or suitability investigation of an individual, the classifying of jobs, or the lawful statutory, administrative, or investigative purpose of the agency to the extent that the information is relevant and necessary to the requesting agency's decision.

i. To disclose information to other federal agencies in accordance with Memoranda of Understanding or similar agreements between EEOC and other agencies that provide for coordination, cooperation, and confidentiality of documents in EEOC's employment discrimination enforcement efforts.

POLICIES AND PRACTICES FOR STORING, RETRIEVING, ACCESSING, RETAINING, AND DISPOSING OF RECORDS IN THE SYSTEM:

STORAGE:

These records are maintained in file folders and electronically.

RETRIEVABILITY:

These records are retrievable by charging party name, employer name, and charge number.

SAFEGUARDS:

Paper records are maintained in a secured area to which only authorized personnel have access. Access to and use of these records is limited to those persons whose official duties require such access. The premises are locked when authorized personnel are not on duty. Access to electronic records is limited, through use of usernames and passwords, to those whose official duties require access.

RETENTION AND DISPOSAL:

All private sector charge files not designated for permanent retention will be retained for three years following the fiscal year in which they were closed. (For example, if a charge was closed on March 31, 2014, in FY 2014, the three-year retention period would begin on October 1, 2014, which is the first day of FY 2015.) These non-permanent files will be retained for one year in the EEOC field office where the charge of discrimination was filed. Afterwards, the non-permanent files will be transferred to the Federal Records Center (FRC). The FRC will destroy the files after the three-year retention period is met. Permanent files will be retained in the field office for three years and then transferred to FRC. FRC will transfer the files to the National Archives and Records Administration (NARA) for permanent retention when eligible.

Closed non-permanent private sector charge files that are the subject of Freedom of Information Act (FOIA) requests are retained for six years after the FOIA response is provided. The files will be transferred to FRC one year after completion of all actions taken under FOIA/Privacy Act. Alternatively, the files may be included as part of the permanent files retained by the EEOC field office.

Closed private sector charge files that are the subject of a Section 83 request are retained for six years after the Section 83 response is provided. The files will be transferred to FRC one year after completion of all actions taken under FOIA. Alternatively, the files may be included as part of the permanent files retained by the EEOC field office.

SYSTEM MANAGER(S) AND ADDRESS:

Director of the office in the field where the charge was filed (see Appendix A). Director of the Office of Field Programs, 131 M Street NE., Washington, DC 20507. Director of the Office of Federal Operations, 131 M Street NE., Washington, DC 20507 (only for complaints filed under section 321 of the Government Employees Right Act of 1991).

SYSTEM EXEMPTED FROM CERTAIN PROVISIONS OF THE ACT:

This system is exempt under 5 U.S.C. 552a(k)(2) from subsections (c)(3), (d), (e)(1), (e)(4)(G), (e)(4)(H), (e)(4)(I) and (f) of the Act.

EEOC-2

SYSTEM NAME:

Attorney Referral List.

SYSTEM LOCATION:

All District Offices (see Appendix A).

CATEGORIES OF INDIVIDUALS COVERED BY THE SYSTEM:

Attorneys who represent plaintiffs in employment discrimination litigation.

CATEGORIES OF RECORDS IN THE SYSTEM:

This system contains attorneys' names, business addresses and telephone numbers, the nature and amount of their civil rights litigation experience; their state and federal bar admissions; whether the attorneys have the capacity and desire to handle class actions; whether the attorneys charge consultation fees (and how much); whether the attorneys will waive the consultation fee; the types of fee arrangements the attorneys will accept; and whether the attorney speaks a foreign language fluently.

AUTHORITY FOR MAINTENANCE OF THE SYSTEM:

42 U.S.C. 2000e-4(g); 44 U.S.C. 3101.

PURPOSE:

This system is maintained for the purpose of providing charging parties, upon their request, with information about local attorneys who represent plaintiffs in employment discrimination litigation.

ROUTINE USES OF RECORDS MAINTAINED IN THE SYSTEM, INCLUDING CATEGORIES OF USERS AND THE PURPOSES OF SUCH USES:

These records and information in these records may be used:

a. To refer charging parties to attorneys who handle litigation of employment discrimination lawsuits.

b. To provide information to a congressional office from the record of an individual in response to an inquiry from the congressional office made at the request of the individual.

POLICIES AND PRACTICES FOR STORING, RETRIEVING, ACCESSING, RETAINING, AND DISPOSING OF RECORDS IN THE SYSTEM:

STORAGE:

Stored on prepared forms, on index cards and electronically.

RETRIEVABILITY:

Indexed alphabetically by names of the attorneys.

SAFEGUARDS:

Access to this system of records is restricted to EEOC personnel who have a legitimate use for the information. This system is stored in filing cabinets. Access to electronic records is limited, through use of access codes and entry logs, to those whose official duties require access.

RETENTION AND DISPOSAL:

Files are reviewed and updated annually.

SYSTEM MANAGERS AND ADDRESS:

Regional Attorney at each District Office (see Appendix A).

NOTIFICATION PROCEDURE:

Inquiries concerning this system of records should be addressed to the appropriate system manager. It is necessary to furnish the following information: (1) Full name of the individual whose records are requested; (2) mailing address to which the reply should be sent.

RECORD ACCESS PROCEDURES:

Same as above.

CONTESTING RECORD PROCEDURES:

Same as above.

RECORD SOURCE CATEGORIES:

The individual on whom the record is maintained.

EEOC-3

SYSTEM NAME:

Title VII, Americans with Disabilities Act, and Genetic Information Nondiscrimination Act Discrimination Case Files.

SYSTEM LOCATION:

Field Office where the charge of discrimination was filed (see Appendix A).

CATEGORIES OF INDIVIDUALS COVERED BY THE SYSTEM:

Persons, other than federal employees and applicants, who file charges alleging that an employer, employment agency, labor organization or joint labor-management apprenticeship committee has violated Title VII of the Civil Rights Act of 1964, the Americans with Disabilities Act of 1990, Title II of the Genetic Information Nondiscrimination Act of 2008 (GINA), or any combination of the three.

CATEGORIES OF RECORDS IN THE SYSTEM:

This system contains records compiled during the investigation of race, color, religion, sex, national origin, disability, and genetic information discrimination cases. These records include:

a. Documents submitted by charging party, such as a charge of discrimination, a personal interview statement, medical records, and correspondence.

b. Documents submitted by employer such as position statement, correspondence, statements of witnesses, documentary evidence such as personnel files, records of earnings, EEO data, employee benefit plans, seniority lists, job titles and descriptions, applicant data, organizational charts, collective bargaining agreements, and petition to revoke or modify subpoenas.

c. Records gathered and generated by EEOC in the course of its investigation such as letters to state or local fair employment practice agencies, correspondence with state fair employment practice agencies, witness statements, investigator's notes, investigative plan, investigator's analysis of the evidence and charge, report of initial and exit interviews, copy of deferral to state, subpoenas, decisions and letters of determination, analysis of deferral agency action, conciliation agreements, correspondence, and any additional evidence gathered during the course of the investigation.

AUTHORITY FOR MAINTENANCE OF THE SYSTEM:

5 U.S.C. 301; 42 U.S.C. 2000e-5, -8 and -9; 42 U.S.C. 12117; 44 U.S.C. 3101, 42 U.S.C. 2000ff-10.

PURPOSE:

This system is maintained for the purpose of enforcing the prohibitions against employment discrimination contained in Title VII of the Civil Rights Act of 1964, the Americans with Disabilities Act of 1990, and Title II of the Genetic Information Nondiscrimination Act of 2008

ROUTINE USES OF RECORDS MAINTAINED IN THE SYSTEM, INCLUDING CATEGORIES OF USERS AND THE PURPOSES OF SUCH USES:

These records and information in these records may be used:

a. To disclose pertinent information to a federal, state, or local agency or third party as may be appropriate or necessary to perform the Commission's functions under Title VII of the Civil Rights Act of 1964, the Americans with Disabilities Act of 1990, or Title II of the Genetic Information Nondiscrimination Act of 2008.

b. To disclose information contained in these records to state and local agencies administering state or local fair employment practices laws.

c. To disclose non-confidential or non-privileged information contained in these records to the following persons after a notice of right to sue has been issued:

1. Aggrieved persons and their attorneys in case files involving Commissioner Charges provided that such persons have been notified of their status as aggrieved persons;

2. Persons or organizations filing on behalf of an aggrieved person provided that the aggrieved person has given written authorization to the person who filed on his or her behalf to act as the aggrieved person's agent for this purpose, and their attorneys;

3. Employers and their attorneys, provided that the charging party or aggrieved person has filed suit under Title VII, the Americans with Disabilities Act, Title II of the Genetic Information Nondiscrimination Act of 2008, or any combination of the three.

d. To provide information to a congressional office from the record of an individual in response to an inquiry from the congressional office made at the request of a party to the charge.

e. To disclose pertinent information to the appropriate federal, state, or local agencies responsible for investigating, prosecuting, enforcing, or implementing a statute, rule, regulation, or order, where EEOC becomes aware of an indication of a violation or potential violation of civil or criminal law or regulation.

f. To disclose information to another federal agency, to a court, or to a party in litigation before a court or in an administrative proceeding being conducted by a federal agency when the government is a party to the judicial or administrative proceeding.

g. To disclose information to officials of disciplinary boards or committees under the control of a state or local government when they are investigating complaints against attorneys in connection with their representation of a party before EEOC.

h. To disclose to a Federal agency in the executive, legislative, or judicial branch of government, in response to its request for information in connection with the hiring of an employee, the issuance of a security clearance, the conducting of a security or suitability investigation of an individual, the classifying of jobs, or the lawful statutory, administrative, or investigative purpose of the agency to the extent that the information is relevant and necessary to the requesting agency's decision.

i. To disclose information to other federal agencies in accordance with Memoranda of Understanding or similar agreements between EEOC and other agencies that provide for coordination, cooperation, and confidentiality of documents in EEOC's employment discrimination enforcement efforts.

POLICIES AND PRACTICES FOR STORING, RETRIEVING, ACCESSING, RETAINING, AND DISPOSING OF RECORDS IN THE SYSTEM

STORAGE:

These records are maintained in file folders and electronically.

RETRIEVABILITY:

These records are retrievable by charging party name, employer name, and charge number.

SAFEGUARDS:

Paper records are maintained in a secured area to which only authorized personnel have access. Access to and use of these records is limited to those persons whose official duties require such access. The premises are locked when authorized personnel are not on duty. Access to electronic records is limited, through use of usernames and passwords, to those whose official duties require access.

RETENTION AND DISPOSAL:

All private sector charge files not designated for permanent retention will be retained for three years following the fiscal year in which they were closed. (For example, if a charge was closed on March 31, 2014, in FY 2014, the three-year retention period would begin on October 1, 2014, which is the first day of FY 2015.) These non-permanent files will be retained for one year in the EEOC field office where the charge of discrimination was filed. Afterwards, the non-permanent files will be transferred to the Federal Records Center (FRC). The FRC will destroy the files after the three-year retention period is met. Permanent files will be retained in the field office for three years and then transferred to FRC. FRC will transfer the files to the National Archives and Records Administration (NARA) for permanent retention when eligible.

Closed non-permanent private sector charge files that are the subject of Freedom of Information Act (FOIA) requests are retained for six years after the FOIA response is provided. The files will be transferred to FRC one year after completion of all actions taken under FOIA/Privacy Act. Alternatively, the files may be included as part of the permanent files retained by the EEOC field office.

Closed private sector charge files that are the subject of a Section 83 request are retained for six years after the Section 83 response is provided. The files will be transferred to FRC one year after completion of all actions taken under FOIA/Privacy Act. Alternatively, the files may be included as part of the permanent files retained by the EEOC field office.

SYSTEM MANAGER(S) AND ADDRESS:

Director of the office in the field where the charge was filed (see Appendix A). Director of the Office of Field Programs, 131 M Street NE., Washington, DC 20507.

SYSTEMS EXEMPTED FROM CERTAIN PROVISIONS OF THE ACT:

This system is exempt under 5 U.S.C. 552a(k)(2) from subsections (c)(3), (d), (e)(1), (e)(4)(G), (e)(4)(H), (e)(4)(I), and (f) of the Act.

EEOC-4

SYSTEM NAME:

Biographical Files.

SYSTEM LOCATION:

Office of Communications and Legislative Affairs, Equal Employment Opportunity Commission, 131 M Street NE., Washington, DC 20507.

CATEGORIES OF INDIVIDUALS COVERED BY THE SYSTEM:

Current and former Commissioners, General Counsels and Commission officials.

CATEGORIES OF RECORDS IN THE SYSTEM:

Includes for each the name, date and place of birth, education, employment history, and other biographical information.

AUTHORITY FOR MAINTENANCE OF THE SYSTEM:

44 U.S.C. 3101, 42 U.S.C. 2000e-4.

PURPOSE:

This system is maintained for the purpose of providing information about EEOC officials to members of the Congress and the public.

ROUTINE USES OF RECORDS MAINTAINED IN THE SYSTEM, INCLUDING CATEGORIES OF USERS AND THE PURPOSES OF SUCH USES:

These records and information in these records may be used

a. To answer public and congressional inquiries regarding EEOC Commissioners, General Counsels and Commission officials.

POLICIES AND PRACTICES FOR STORING, RETRIEVING, ACCESSING, RETAINING, AND DISPOSING OF RECORDS IN THE SYSTEM:

STORAGE:

Stored electronically.

RETRIEVABILITY:

Indexed by last name of the Commissioner, General Counsel or Commission official.

SAFEGUARDS:

Files are kept in the Office of Communications and Legislative Affairs, which is locked evenings, weekends, and holidays.

RETENTION AND DISPOSAL:

Maintained permanently.

SYSTEM MANAGER AND ADDRESS:

Director, Office of Communications and Legislative Affairs, Equal Employment Opportunity Commission, 131 M Street NE., Washington, DC 20507.

NOTIFICATION PROCEDURES:

Inquiries concerning this system of records should be addressed to the system manager. All inquiries should furnish the full name of the individual and the mailing address to which the reply should be mailed.

RECORD ACCESS PROCEDURES:

Same as above.

CONTESTING RECORDS PROCEDURES:

Same as above.

RECORD SOURCE CATEGORIES:

The individual to whom the record pertains.

EEOC-5

SYSTEM NAME:

Correspondence and Communications.

SYSTEM LOCATION:

All locations listed in appendix A and all headquarters offices, 131 M Street NE., Washington, DC 20507.

CATEGORIES OF INDIVIDUALS COVERED BY THE SYSTEM:

Charging parties, members of the general public, members of Congress and current and former federal employees who seek information or assistance from EEOC.

CATEGORIES OF RECORDS IN THE SYSTEM:

a. Inquiries from members of Congress, the White House and members of the general public, including current and former federal employees.

b. EEOC responses to the above inquiries.

c. Computer tracking system indicating the dates inquiries are received, to whom and when they are assigned for response and the dates they are answered.

AUTHORITY FOR MAINTENANCE OF THE SYSTEM:

44 U.S.C. 3101; 42 U.S.C. 2000e-4.

PURPOSE:

This system is maintained for the purpose of responding to inquiries from members of Congress and the public seeking information or assistance.

ROUTINE USES OF RECORDS MAINTAINED IN THE SYSTEM INCLUDING CATEGORIES OF USERS AND THE PURPOSES OF SUCH USES:

These records and information in these records may be used:

a. To provide information to a congressional office from the record of an individual in response to an inquiry from the congressional office at the request of the individual.

b. To disclose information to another federal agency, to a court, or to a party in litigation before a court or in an administrative proceeding being conducted by a federal agency when the government is a party to the judicial or administrative proceeding.

POLICIES AND PRACTICES FOR STORING, RETRIEVING, ACCESSING, RETAINING, AND DISPOSING OF RECORDS IN THE SYSTEM:

STORAGE:

These records are maintained in file cabinets and electronically.

RETRIEVABILITY:

Computer entries are retrievable by name of author of a letter, by subject, by key word, by reference number, by name of person to whom assigned, and by dates assigned, due, and answered.

SAFEGUARDS:

These records are kept in a secured area to which only authorized personnel have access. Access to and use of these records is limited to those persons whose official duties require such access. The premises are locked when authorized personnel are not on duty. Access to electronic records is limited, through use of usernames and passwords, to those whose official duties require access.

RETENTION AND DISPOSAL:

Records are maintained for three years from the date of the last communication and then destroyed. Tracking system information is maintained in the computer for four years.

SYSTEM MANAGER AND ADDRESS:

Director of each Commission office in the field and Headquarters office. (See Appendix A.)

NOTIFICATION PROCEDURE:

Inquiries concerning this system of records should be addressed to the system manager. All inquiries should furnish the full name of the individual and the mailing address to which the reply should be mailed.

RECORD ACCESS PROCEDURES:

Same as above.

CONTESTING RECORDS PROCEDURES:

Same as above.

RECORD SOURCE CATEGORIES:

Members of Congress, their staffs, the White House, charging parties, members of the general public, current and former federal employees.

EEOC-6

SYSTEM NAME:

Freedom of Information Act and Privacy Act Records.

SYSTEM LOCATION:

Field Office where Freedom of Information Act or Privacy Act request was submitted (see Appendix A); Office of Legal Counsel, Equal Employment Opportunity Commission, 131 M Street NE., Washington, DC 20507.

CATEGORIES OF INDIVIDUALS COVERED BY THE SYSTEM:

Persons who submit Freedom of Information Act (FOIA) and Privacy Act requests and administrative appeals to the Equal Employment Opportunity Commission (EEOC); and persons whose requests and/or records have been submitted to EEOC by other agencies.

CATEGORIES OF RECORDS IN THE SYSTEM:

This system consists of records created or compiled in response to FOIA or Privacy Act requests and administrative appeals, including the original requests and administrative appeals, responses to such requests and administrative appeals, all related memoranda, correspondence, notes and other related or supporting documentation, and, in some instances, copies of requested records and records under administrative appeal.

AUTHORITY FOR MAINTENANCE OF THE SYSTEM:

5 U.S.C. 301; 44 U.S.C. 3101; 5 U.S.C 552; and 5 U.S.C. 552a.

PURPOSE(S):

This system is maintained for the purpose of processing requests and administrative appeals under the FOIA, and access and amendment requests and administrative appeals under the Privacy Act; for the purpose of participating in litigation regarding agency action on such requests and appeals; and for the purpose of assisting EEOC in carrying out any other responsibilities under the FOIA and the Privacy Act.

ROUTINE USES OF RECORDS MAINTAINED IN THE SYSTEM, INCLUDING CATEGORIES OF USERS AND THE PURPOSES OF SUCH USES:

These records and information in these records may be used:

a. To provide information to a federal, state, local, or foreign agency or entity for the purpose of consulting with that agency or entity to enable the EEOC to make a determination as to the propriety of access to, or correction of, information, or for the purpose of verifying the identity of an individual or the accuracy of information submitted by an individual who has requested access to or amendment of information.

b. To provide information to a federal agency or entity that furnished the record or information for the purpose of permitting that agency or entity to make a decision as to access to, or correction of, the record or information.

c. To provide information to a submitter or subject of a record or information in order to obtain assistance to EEOC in making a determination as to access or amendment.

d. To provide information to the National Archives and Records Administration, Office of Government Information Services (OGIS), to the extent necessary to fulfill its responsibilities under 5 U.S.C. 552(h) to review federal agency policies, procedures, and compliance with the FOIA, and to facilitate OGIS's offering of mediation services to resolve disputes between persons making FOIA requests and federal agencies.

e. To provide information to contractors, experts, consultants, students, and others performing or working on a contract, service, or other assignment for the federal government, when necessary to accomplish an agency function related to this system of records.

f. To provide information to a congressional office from the record of the individual in response to an inquiry from that congressional office made at the request of that individual.

g. To disclose information to another federal agency, to a court, or to a party in litigation before a court or in an administrative proceeding being conducted by a federal agency when the government is a party to the judicial or administrative proceeding.

h. To disclose pertinent information to the appropriate federal, state, or local agency responsible for investigating, prosecuting, enforcing, or implementing a statute, rule, regulation, or order, when the EEOC becomes aware of an indication of a violation or potential violation of civil or criminal law or regulation.

i. To disclose in response to a request for discovery or for appearance of a witness, information that is relevant to the subject matter involved in the pending judicial or administrative proceeding.

DISCLOSURE TO CONSUMER REPORTING AGENCIES:

None.

POLICIES AND PRACTICES FOR STORING, RETRIEVING, ACCESSING, RETAINING, AND DISPOSING OF RECORDS IN THE SYSTEM:

STORAGE:

Records in this system are stored on paper and/or in electronic form.

RETRIEVABILITY:

Records are retrieved by the name of the requester or appellant; the number assigned to the request or appeal; and, in some instances, the name of the attorney representing the requester or appellant or the name of the EEOC personnel assigned to handle such requests and appeals.

SAFEGUARDS:

Information in this system is safeguarded in accordance with applicable laws, rules, and policies, including EEOC's automated systems security and access policies. Records and electronic equipment are maintained in buildings with restricted access. The required use of password protection identification features and other system protection methods also restrict access. Access is limited to those EEOC officers and employees who have an official need for access to perform their duties.

RETENTION AND DISPOSAL:

Records are retained and disposed of in accordance with the National Archives and Records Administration's General Records Schedule 14.

SYSTEM MANAGER(S) AND ADDRESS:

Director of the field office where the Freedom of Information Act or Privacy Act request was submitted (see Appendix A) or the Legal Counsel, 131 M Street NE., Washington, DC 20507.

NOTIFICATION PROCEDURE:

Inquiries concerning this system of records should be addressed to the system manager. All inquiries should furnish the full name of the individual and the mailing address or email address to which the reply should be mailed.

RECORD ACCESS PROCEDURES:

Same as above.

CONTESTING RECORDS PROCEDURES:

Same as above.

RECORD SOURCE CATEGORIES:

Individuals who submit initial requests and administrative appeals pursuant to the FOIA and the Privacy Act; the agency records searched in the process of responding to such requests and appeals; EEOC personnel assigned to handle such requests and appeals; and other agencies or entities that have referred to EEOC requests concerning EEOC records.

EEOC-7

SYSTEM NAME:

Employee Pay and Leave Records.

SYSTEM LOCATION:

All locations listed in Appendix A.

CATEGORIES OF INDIVIDUALS COVERED BY THE SYSTEM:

Current and former employees of EEOC.

CATEGORIES OF RECORDS IN THE SYSTEM:

Time and attendance records; leave records (includes employee name, branch or office, pay period ending, leave and overtime used during the pay period); requests for leave (earned or advance) or leave of absence; requests for an authorization of overtime; annual attendance record (indicates name, social security number, service computation date, hours and dates worked and taken as leave, pay plan, salary and occupation code, grade, leave earned and used); thrift savings plan participation, deductions for Medicare, FICA, taxes, life, health, and long term care insurance, union contributions, charitable contributions, savings allotments and bond issuance and bond balance.

AUTHORITY FOR MAINTENANCE OF THE SYSTEM:

5 U.S.C. 301; 44 U.S.C. 3101.

PURPOSE:

The records in this system are maintained in accordance with the requirements set forth by statutes, regulations and guidance from the Office of Personnel Management, the General Services Administration, and the Thrift Savings Board. They are maintained for the purpose of providing salaries and other benefits to EEOC employees.

ROUTINE USES OF RECORDS MAINTAINED IN THE SYSTEM, INCLUDING CATEGORIES OF USERS AND THE PURPOSES OF SUCH USES:

These records and information in these records may be used:

a. To provide information to a congressional office from the record of an individual in response to an inquiry from the congressional office made at the request of the individual.

b. To provide a copy of an employee's Department of the Treasury Form W-2, Wage and Tax Statement, to the state, city or other local jurisdiction which is authorized to tax the employee's compensation. The record will be provided in accordance with a withholding agreement between the state, city, or other jurisdiction and the Department of Treasury pursuant to 5 U.S.C. 5516, 5517 or 5520, or in response to a written request from an appropriate official of the taxing jurisdiction. The request must include a copy of the applicable statute or ordinance authorizing the taxation of compensation and should indicate whether the authority of the jurisdiction to tax the employee is based on place of residence, place of employment, or both.

c. To disclose copies of executed city tax withholding certificates to a city pursuant to a withholding agreement between the city and the Department of the Treasury (5 U.S.C. 5520) in response to a written request from an appropriate city official.

d. To disclose the social security number only, in the absence of a withholding agreement, to a taxing jurisdiction that has furnished this agency with evidence of its independent authority to compel disclosure of the social security number, in accordance with section 7 of the Privacy Act, 5 U.S.C. 552a note.

e. To disclose pertinent information to the appropriate federal, state, or local agency responsible for investigating, prosecuting, enforcing, or implementing a statute, rule, regulation, or order, where EEOC becomes aware of an indication of a violation or potential violation of civil or criminal law or regulation.

f. To disclose to an agency in the executive, legislative, or judicial branch or the District of Columbia's Government information in connection with the hiring of an employee, the issuance of a security clearance, the conducting of a security or suitability investigation of an individual, the classifying of jobs, the letting of a contract, the issuance of a license, grant, or other benefits by the requesting agency, or the lawful statutory, administrative, or investigative purpose of the agency to the extent that the information is relevant and necessary to the requesting agency's decision.

g. To disclose to an authorized appeal grievance examiner, formal complaints examiner, administrative judge, equal employment opportunity investigator, arbitrator, or other duly authorized official engaged in investigation or settlement of a grievance, complaint, or appeal filed by an employee.

h. To disclose to the Office of Personnel Management in accordance with the agency's responsibility for evaluation and oversight of Federal personnel management.

i. To disclose to officers and employees of the Department of the Interior in connection with administrative services provided to this agency under agreement with DOI.

j. To disclose information to another federal agency, to a court, or to a party in litigation before a court or in an administrative proceeding being conducted by a federal agency when the government is a party to the judicial or administrative proceeding.

k. To disclose information to the Office of Child Support Enforcement, Administration for Children and Families, Department of Health and Human Services Federal Parent Locator system (FPLS) and Federal Tax Offset system for use in locating individuals and identifying their income sources to establish paternity, establish and modify orders of support and for enforcement action.

l. To disclose information to the Office of Child Support Enforcement for release to the Social Security Administration for verifying social security numbers in connection with the operation of the FPLS by the Office of Child Support Enforcement.

m. To disclose information to the Office of Child Support Enforcement for release to the Department of Treasury for purposes of administering the Earned Income Tax Credit Program (Section 32, Internal Revenue Code of 1986) and verifying a claim with respect to employment in a tax return.

DISCLOSURE TO CONSUMER REPORTING AGENCIES:

Disclosures may be made from this system to consumer reporting agencies as defined in the Fair Credit Reporting Act (15 U.S.C. 1681a(f)) or the Federal Claims Collection Act of 1966 (31 U.S.C. 3701(a)(3)).

POLICIES AND PRACTICES FOR STORING, RETRIEVING, ACCESSING, RETAINING, AND DISPOSING OF RECORDS IN THE SYSTEM:

STORAGE:

Stored electronically and in file folders.

RETRIEVABILITY:

Indexed by an assigned employee code.

SAFEGUARDS:

Access to these records is limited to employees whose official duties require such access.

RETENTION AND DISPOSAL:

The records are destroyed after three years.

SYSTEM MANAGER AND ADDRESS:

Director of each Commission Office (See Appendix A).

NOTIFICATION PROCEDURE:

Inquiries concerning this system of records should be addressed to the system manager. It is necessary to furnish the following information: (1) Name and (2) mailing address to which the response is to be sent.

RECORD SOURCE CATEGORIES:

Official personnel folder, data submitted by employees and data submitted by the offices where the individuals are or were employed.

EEOC-8

SYSTEM NAME:

Employee Travel and Reimbursement Records.

SYSTEM LOCATION:

All locations listed in Appendix A.

CATEGORIES OF INDIVIDUALS COVERED BY THE SYSTEM:

Current and former employees.

CATEGORIES OF RECORDS IN THE SYSTEM:

Includes travel orders, travel vouchers, records of travel advances, amounts owed the agency by employees for travel and other purposes, amounts payable to the employee for travel and other purposes, payments made to the employees for travel and other reimbursable transactions, and a record of the difference between the cost of official travel as estimated in the travel order and the amount actually expended by the employee.

AUTHORITY FOR MAINTENANCE OF THE SYSTEM:

31 U.S.C. 3512, 44 U.S.C. 3101.

PURPOSE:

These records are maintained in accordance with the General Service Administration's regulations for the purpose of allowing EEOC employees to travel for official business and reimbursing travel expenses.

ROUTINE USES OF RECORDS MAINTAINED IN THE SYSTEM, INCLUDING CATEGORIES OF USERS AND THE PURPOSES OF SUCH USES:

These records and information in these records may be used:

a. To disclose pertinent information to the appropriate Federal, State, or local agency responsible for investigating, prosecuting, enforcing, or implementing a statute, rule, regulation, or order, where EEOC becomes aware of an indication of a violation or potential violation of civil or criminal law or regulation.

b. To disclose to an agency in the executive, legislative, or judicial branch or the District of Columbia's Government, information in connection with the hiring of an employee, the issuance of a security clearance, the conducting of a security or suitability investigation of an individual, the classifying of jobs, the letting of a contract, the issuance of a license, grant, or other benefits by the requesting agency, or the lawful statutory, administrative, or investigative purpose of the agency to the extent that the information is relevant and necessary to the requesting agency's decision.

c. To disclose to an authorized appeal grievance examiner, formal complaints examiner, administrative judge, equal employment opportunity investigator, arbitrator, or other duly authorized official engaged in investigation or settlement of a grievance, complaint, or appeal filed by an employee.

d. To disclose to the Office of Personnel Management in accordance with the agency's responsibility for evaluation and oversight of Federal personnel management.

e. To disclose to officers and employees of the Department of the Interior in connection with administrative services provided to this agency under agreement with DOI.

f. To disclose information to another federal agency, to a court, or to a party in litigation before a court or in an administrative proceeding being conducted by a federal agency when the government is a party to the judicial or administrative proceeding.

g. To provide information to a congressional office from the record of an individual in response to an inquiry from the congressional office made at the request of the individual.

DISCLOSURE TO CONSUMER REPORTING AGENCIES:

Disclosures may be made from this system to consumer reporting agencies as defined in the Fair Credit Reporting Act (15 U.S.C. 1681a(f)) or the Federal Claims Collection Act of 1966 (31 U.S.C. 3701(a)(3)).

POLICIES AND PRACTICES FOR STORING, RETRIEVING, ACCESSING, RETAINING, AND DISPOSING OF RECORDS IN THE SYSTEM:

STORAGE:

Stored on prepared forms and electronically.

RETRIEVABILITY:

Indexed alphabetically by name and/or chronologically by event and name. Access to and use of these records is limited to those persons whose official duties require such access. Personnel screening is employed to prevent unauthorized disclosure. Files are stored electronically and in standard cabinets, safes, and secured rooms. Access to electronic records is limited, through use of user names and passwords, to those whose official duties require access.

RETENTION AND DISPOSAL:

These records are destroyed in accordance with GSA General Records Schedule 2.

SYSTEM MANAGER AND ADDRESS:

Director, Finance and Systems Services Division, Office of the Chief Financial Officer, EEOC, 131 M Street NE., Washington, DC 20507.

NOTIFICATION PROCEDURE:

Employees of the Commission wishing to know whether information about them is maintained in this system of records should address inquiries to the Director of the Office where employed (see Appendix A). The individual should provide his or her full name, date of birth, and mailing address.

RECORD ACCESS PROCEDURES:

Same as above.

CONTESTING RECORD PROCEDURES:

Same as above.

RECORD SOURCE CATEGORIES:

Bills, receipts, and claims presented by employees and original data generated by the Commission.

EEOC-9

SYSTEM NAME:

Claims Collection Records.

SYSTEM LOCATION:

These records are located in the Finance and Systems Services Division, Office of Chief Financial Officer, Equal Employment Opportunity Commission, 131 M Street NE., Washington, DC 20507.

CATEGORIES OF INDIVIDUALS COVERED BY THE SYSTEM:

Any individual who is indebted to the United States as a result of his or her interaction or financial activities with the Commission or another federal agency including, but not limited to, any current or former Commission employee.

CATEGORIES OF RECORDS IN THE SYSTEM:

This system contains:

Debtor Files. These files contain information and evidence on the identity and location of the individual who is subject to a claim, the origin and amount of the indebtedness, decisions and determinations regarding a claim, actions taken to collect a claim, and the results of those actions. Depending on the status of a claim, a case file may include such records as documents evidencing indebtedness, written demands for payment, required notices, financial statements, medical disability statements, agency investigative reports, credit reports, written agreements for payment, intra-agency and inter-agency memoranda of consultation and opinion on the collection action, documentation resulting from a hearing, requests for waiver, requests for reconsideration, written determinations and decisions, certifications of indebtedness by this or another agency, counterclaims, judgments, and documents evidencing payment or compromise of the debt.

AUTHORITY FOR MAINTENANCE OF THE SYSTEM:

5 U.S.C. 301, 5514, 5522, 5584, 5705, 5724(f); 15 U.S.C. 1692; 26 U.S.C. 6331; 31 U.S.C. 3701, 3702, 3711, 3716, 3717, 3718, 3719; 44 U.S.C. 3101; 4 CFR parts 91-93, 101-105.

PURPOSE:

This system is maintained for the purpose of collecting debts owed the United States by individuals as a result of their interaction with the Commission or another federal agency. The debts are collected in accordance with the Commission's regulatory debt collection procedures, which include salary offset, administrative offset, Federal income tax refund offset, and wage garnishment.

ROUTINE USES OF RECORDS MAINTAINED IN THE SYSTEM, INCLUDING CATEGORIES OF USERS AND THE PURPOSES OF SUCH USES:

These records and information in these records may be used:

a. To disclose information to appropriate officials and employees of the Department of Justice for the purposes of litigation and forced collection on administratively uncollected debts.

b. To disclose information to appropriate officials of the Department of the Treasury and the Office of Management and Budget to provide reports on debt collection activities.

c. To disclose information to another federal agency for the purpose of collecting a debt owed to the Commission by an individual through EEOC's debt collection procedures undertaken by the other agency upon proper certification or evidence of the debt owed from the Commission.

d. To disclose information to another federal agency for the purpose of collecting a debt owed to that agency by an individual through EEOC's debt collection procedures undertaken by the Commission upon proper certification or evidence of the debt owed from the other agency.

e. To disclose a debtor's name and identification number to the Secretary of the Treasury or his or her designee for the purpose of obtaining the debtor's mailing address from the IRS.

f. To provide information to a congressional office from the record of an individual in response to an inquiry from the congressional office made at the request of the individual.

g. To disclose pertinent information to the appropriate federal, state, or local agency responsible for investigating, prosecuting, enforcing, or implementing a statute, rule, regulation, or order, where EEOC becomes aware of an indication of a violation or potential violation of civil or criminal law or regulation.

h. To disclose to an agency in the executive, legislative, or judicial branch or the District of Columbia's government in response to its request, or at the initiation of the agency maintaining the records, information in connection with the hiring of an employee, the issuance of a security clearance, the conducting of a security or suitability investigation of an individual, the classifying of jobs, the letting of a contract, the issuance of a license, grant, or other benefit by the requesting agency, or the lawful statutory, administrative, or investigative purpose of the agency to the extent that the information is relevant and necessary to the requesting agency's decision.

i. To disclose to officers and employees of the Department of the Interior Business Center, in connection with administrative services provided to this agency under agreement with DOI.

POLICIES AND PRACTICES FOR STORING, RETRIEVING, ACCESSING, RETAINING, AND DISPOSING OF RECORDS IN THE SYSTEM:

STORAGE:

These records are maintained in file folders and electronically.

RETRIEVABILITY:

These records are indexed by the name of the individual.

SAFEGUARDS:

Records are maintained and stored in file cabinets in a secured area and electronically to which only authorized personnel have access. Access to and use of these records is limited to those persons whose official duties require such access.

RETENTION AND DISPOSAL:

Individual case files are usually retained for two years after the claim is collected. Case records on individuals whose delinquent debts are reported to consumer reporting agencies are retained indefinitely. Other case files may be maintained for a period up to ten years. IRS Mailing Address Index on any individual is not maintained beyond six years.

SYSTEM MANAGER AND ADDRESS:

Director, Finance and Systems Services Division, Office of Chief Financial Officer Equal Employment Opportunity Commission, 131 M Street NE., Washington, DC 20507.

NOTIFICATION PROCEDURES:

Under the Debt Collection Act, individuals are notified if claims collection records are maintained on them in accordance with statutory procedures for debt collection. Individuals may also contact the System Manager in order to obtain notification of claims collection records on themselves.

Individuals must provide their full names under which records may be maintained, and a mailing address to which a reply should be sent.

RECORD ACCESS PROCEDURES:

Same as above.

CONTESTING RECORD PROCEDURES:

Same as above.

RECORD SOURCE CATEGORIES:

Information in this system of records is provided by or from:

a. The individual on whom the record is maintained;

b. Other Federal agencies;

c. Personnel, payroll, travel records, contract records, or other records;

d. Administrative hearings;

e. Court records.

EEOC-10

SYSTEM NAME:

Grievance Records.

SYSTEM LOCATION:

These records are located in the Office of the Chief Human Capital Officer, Equal Employment Opportunity Commission, 131 M Street NE., Washington, DC 20507, and in other headquarter offices and offices in the field where the grievances were filed (see Appendix A).

CATEGORIES OF INDIVIDUALS COVERED BY THE SYSTEM:

Current or former EEOC employees who have submitted grievances to the EEOC, or pursuant to a negotiated procedure.

CATEGORIES OF RECORDS IN THE SYSTEM:

The system contains all documents related to the grievance, including statements of witnesses, reports of interviews and hearings, examiners' findings and recommendations, a copy of the original and final decision, and related correspondence and exhibits. This system includes files and records of internal grievance and arbitration systems that EEOC has or may establish through negotiations with recognized labor organizations.

AUTHORITY FOR MAINTENANCE OF THE SYSTEM:

5 U.S.C. 301; 44 U.S.C. 3101; 5 U.S.C. 7121.

PURPOSE:

These records result from EEOC employees' grievances, filed under the Commission's administrative grievance procedures or the formal grievance procedures contained in section 7121 of the Civil Service Reform Act.

ROUTINE USES OF RECORDS MAINTAINED IN THE SYSTEM, INCLUDING CATEGORIES OF USERS AND THE PURPOSES OF SUCH USES:

These records and information in these records may be used:

a. To disclose information to any source from which additional information is requested in the course of processing a grievance, to the extent necessary to identify the individual, inform the source of the purpose(s) of the request, and identify the type of information requested.

b. To disclose pertinent information to the appropriate federal, state, or local agency responsible for investigating, prosecuting, enforcing, or implementing a statute, rule, regulation, or order, where EEOC becomes aware of an indication of a violation or potential violation of civil or criminal law or regulation.

c. To disclose to an agency in the executive, legislative, or judicial branch or the District of Columbia's government, information in connection with the hiring of an employee, the issuance of a security clearance, the conducting of a security or suitability investigation of an individual, the classifying of jobs, the letting of a contract, the issuance of a license, grant, or other benefits by the requesting agency, or the lawful statutory, administrative, or investigative purpose of the agency to the extent that the information is relevant and necessary to the requesting agency's decision.

d. To disclose information to another federal agency, to a court, or to a party in litigation before a court or in an administrative proceeding being conducted by a federal agency when the government is a party to the judicial or administrative proceeding.

e. To provide information to a congressional office from the record of an individual in response to an inquiry from that congressional office made at the request of that individual.

f. To disclose to an authorized appeal grievance examiner, formal complaints examiner, administrative judge, equal employment opportunity investigator, arbitrator, or other duly authorized official engaged in investigation or settlement of a grievance, complaint, or appeal filed by an employee.

g. To disclose in response to a request for discovery or for appearance of a witness, information that is relevant to the subject matter involved in a pending judicial or administrative proceeding.

h. To provide information to officials of labor organizations recognized under the Civil Service Reform Act when relevant and necessary to their duties of exclusive representation concerning personnel policies, practices, and matters affecting work conditions.

POLICIES AND PRACTICES FOR STORING, RETRIEVING, ACCESSING, RETAINING, AND DISPOSING OF RECORDS IN THE SYSTEM:

STORAGE:

These records are maintained in file folders and electronically.

RETRIEVABILITY:

These records are retrieved by grievance numbers and the names of the individuals on whom they are maintained.

SAFEGUARDS:

These records are maintained in lockable metal filing cabinets to which only authorized personnel have access. Access to electronic records is limited, through use of usernames and passwords, to those whose official duties require access.

RETENTION AND DISPOSAL:

These records are shredded or burned 3 years after closing the case.

SYSTEM MANAGER AND ADDRESS:

If the grievance is pending at or was never raised beyond the Step 1 or Step 2 level, the system manager is the office director, administrative officer, or district resource manager. (See Appendix A.) For grievances that were raised beyond Step 2, the system manager is the Chief Human Capital Officer, EEOC, 131 M Street NE., Washington, DC 20507.

NOTIFICATION PROCEDURES:

It is required that individuals submitting grievances be provided a copy of the record under the grievance process. They may, however, contact the agency personnel or designated office where the action was processed regarding the existence of such records regarding them. They must furnish the following information for their records to be located and identified: (a) Name; (b) approximate date of closing of the case and kind of action taken; (c) organizational component involved.

RECORDS ACCESS PROCEDURES:

Same as above.

CONTESTING RECORD PROCEDURES:

Same as above.

RECORD SOURCE CATEGORIES:

Information in this system of records is provided:

a. By the individual on whom the record is maintained;

b. By testimony of witnesses;

c. By agency officials;

d. From related correspondence from organizations or persons.

EEOC-11

SYSTEM NAME:

Records of Adverse Actions Against Nonpreference Eligibles in the Excepted Service.

SYSTEM LOCATION:

These records are located in Office of Chief Human Capital Officer, Equal Employment Opportunity Commission, 131 M Street NE., Washington, DC 20507 or in the headquarters and offices in the field in which the actions have been taken.

CATEGORIES OF INDIVIDUALS COVERED BY THE SYSTEM:

Current or former nonpreference-eligible, excepted service Equal Employment Opportunity Commission (EEOC) employees against whom an adverse action has been proposed or taken and who have not completed two years of current and continuous service in the same or similar positions. [This system covers only those adverse action files not covered by OPM/GOVT-3.]

CATEGORIES OF RECORDS IN THE SYSTEM:

This system contains records and documents on the processing of adverse actions for employees who are nonpreference eligible in the excepted service and who do not have two years of continuous service in their positions. The records include copies of the notice of proposed action, materials relied on by the agency to support the reasons in the notice, replies by the employee, statements of witnesses, reports, and agency decisions.

AUTHORITY FOR MAINTENANCE OF THE SYSTEM:

44 U.S.C. 3101.

PURPOSE:

These records result from the proposal, processing, and documentation of adverse actions taken by the Commission against nonpreference-eligible, excepted service EEOC employees.

ROUTINE USES OF RECORDS MAINTAINED IN THE SYSTEM, INCLUDING CATEGORIES OF USERS AND THE PURPOSES OF SUCH USES:

These records and information in records may be used:

a. To provide information to officials of labor organizations recognized under 5 U.S.C. Chapter 71 when relevant and necessary to their duties of exclusive representation concerning personnel policies, practices, and matters affecting work conditions.

b. To disclose pertinent information to the appropriate federal, state, or local agency responsible for investigating, prosecuting, enforcing, or implementing a statute, rule, regulation, or order, when the EEOC becomes aware of an indication of a violation or potential violation of civil or criminal law or regulation.

c. To disclose information to any source from which additional information is requested for processing any of the covered actions or in regard to any appeal or administrative review procedure, to the extent necessary to identify the individual, inform the source of the purpose(s) of the request, and identify the type of information requested.

d. To disclose information to a federal agency, in response to its request, in connection with the hiring or retention of an employee, the issuance of a security clearance, the conducting of a security or suitability investigation of an individual, or the classifying of jobs, to the extent that the information is relevant and necessary to the requesting agency's decision on the matter.

e. To provide information to a congressional office from the record of an individual in response to an inquiry from that congressional office made at the request of that individual.

f. To disclose information to another federal agency, to a court, or to a party in litigation before a court or in an administrative proceeding being conducted by a federal agency when the government is a party to the judicial or administrative proceeding.

g. To disclose, in response to a request for discovery or for appearance of a witness, information that is relevant to the subject matter involved in a pending judicial, or administrative proceeding.

h. To disclose to an authorized appeal grievance examiner, formal complaints examiner, administrative judge, equal employment opportunity investigator, arbitrator, or other duly authorized official engaged in the investigation or settlement of a grievance, complaint, or appeal filed by an employee.

POLICIES AND PRACTICES FOR STORING, RETRIEVING, SAFEGUARDING, RETAINING, AND DISPOSING OF RECORDS IN THE SYSTEM:

STORAGE:

These records are maintained in file folders and electronically.

RETRIEVABILITY:

These records are retrieved by the names of the individuals on whom they are maintained.

SAFEGUARDS:

These records are maintained in locked metal filing cabinets to which only authorized personnel have access. Access to electronic records is limited, through use of usernames and passwords, to those whose official duties require access.

RETENTION AND DISPOSAL:

Records documenting an adverse action are disposed of 4 years after the closing of the case.

SYSTEM MANAGER AND ADDRESS:

Chief Human Capital Officer, and Directors of offices in the field (see Appendix A).

NOTIFICATION PROCEDURES:

Individuals receiving notice of a proposed action are provided access to all documents supporting the notice. They may also contact the personnel office where the action was processed regarding the existence of such records on them. They must furnish the following information for their records to be located and identified:

a. Name

b. Approximate date of closing of case and kind of action taken

c. Organizational component involved.

RECORD ACCESS PROCEDURES:

Same as above.

CONTESTING RECORD PROCEDURES:

Same as above.

RECORD SOURCE CATEGORIES:

Information in this system of records is provided:

a. By the individual on whom the record is maintained

b. By witnesses

c. By agency officials.

EEOC-12

SYSTEM NAME:

Telephone Call Detail Records.

SYSTEM LOCATION:

Telecommunications Manager, Customer Services Management Division, Office of Information Technology, EEOC, 131 MM Street NE., Washington DC 20507, and each office in the field listed in Appendix A.

CATEGORIES OF INDIVIDUALS COVERED BY THE SYSTEM:

Individuals (generally EEOC employees) who made telephone calls from EEOC telephones, individuals who received telephone calls from, or charged to, EEOC telephones., and individuals who are assigned U.S. government phone cards by EEOC.

CATEGORIES OF RECORDS IN THE SYSTEM:

Records relating to the use of EEOC telephones and government phone cards to make calls; records indicating the assignment of telephone numbers to employees; records relating to the location of telephones.

AUTHORITY FOR MAINTENANCE OF THE SYSTEM:

44 U.S.C. 3101.

PURPOSE:

These records are maintained for the purpose of keeping an account of telephone calls made from EEOC telephones and ensuring that phone calls and card charges are made for official business only.

ROUTINE USES OF RECORDS MAINTAINED IN THE SYSTEM, INCLUDING CATEGORIES OF USERS AND THE PURPOSES OF SUCH USES:

These records and information from these records may be used:

a. To provide information to a congressional office from the record of an individual in response to an inquiry from that congressional office made at the request of that individual.

b. To disclose to representatives of the General Services Administration or the National Archives and Records Administration who are conducting records management inspections under the authority of 44 U.S.C. 2904 and 2906.

c. To disclose information to another federal agency, to a court, or to a party in litigation before a court or in an administrative proceeding being conducted by a federal agency when the government is a party to the judicial or administrative proceeding.

d. To disclose pertinent information to the appropriate federal, state, or local agency responsible for investigating, prosecuting, enforcing, or implementing a statute, rule, regulation, or order, where the disclosing agency becomes aware of an indication of a violation or potential violation of civil or criminal law or regulation.

e. To disclose to an agency in the executive, legislative, or judicial branch or the District of Columbia's government in response to its request, or at the initiation of the EEOC, information in connection with the hiring of an employee, the issuance of a security clearance, the conducting of a security or suitability investigation of an individual, the classifying of jobs, the letting of a contract, the issuance of a license, grant or other benefits by the requesting agency, or the lawful statutory, administrative, or investigative purpose of the agency to the extent that the information is relevant and necessary to the requesting agency's decision.

f. To disclose to a telecommunications company providing telecommunications support to permit servicing the account.

POLICIES AND PRACTICES FOR STORING, RETRIEVING, ACCESSING, RETAINING, AND DISPOSING OF RECORDS IN THE SYSTEM:

STORAGE:

These records are maintained in file folders and electronically.

RETRIEVABILITY:

Records are retrieved by employee name or identification number and by name of recipient of telephone call or telephone number.

SAFEGUARDS:

Records are maintained and stored in file cabinets in a secured area to which only authorized personnel have access. Access to electronic records is limited, through use of usernames and passwords, to those whose official duties require access.

RETENTION AND DISPOSAL:

Records are disposed of as provided in the National Archives and Records Administration's General Records Schedule 12.

SYSTEM MANAGER AND ADDRESS:

Telecommunications Manager, Customer Services Management Division, Office of Information Technology, EEOC, 131M Street NE., Washington DC, 20507 and the Directors of the field offices listed in Appendix A.

NOTIFICATION PROCEDURES:

Inquiries concerning this system of records should be addressed to the system manager. It is necessary to provide the following information: (1) Name; (2) telephone number (office number if Commission employee); (3) mailing address to which response is to be sent.

RECORD ACCESS PROCEDURES:

Same as above.

CONTESTING RECORD PROCEDURES:

Same as above.

RECORD SOURCE CATEGORIES:

Telephone assignment records; call detail listings; results of administrative inquiries relating to assignment of responsibilities for placement of specific local and long distance calls. on government phone card bills

EEOC-13

SYSTEM NAME:

Employee Identification Cards.

SYSTEM LOCATION:

Operations Services Division, Office of the Chief Human Capital Officer, EEOC, 131 M Street NE., Washington DC 20507, and each of the field offices in Appendix A.

CATEGORIES OF INDIVIDUALS COVERED BY THE SYSTEM:

Current EEOC employees, and other individuals who require regular, ongoing access to EEOC facilities or information technology systems including, but not limited to, federal employees, contractors, interns, volunteers, and individuals formerly in any of these positions. This system does not apply to occasional or short-term visitors.

CATEGORIES OF RECORDS IN THE SYSTEM:

Records maintained on individuals issued identification cards, including Personal Identification Verification (PIV) cards, by EEOC include the following information: Full name; signature; social security number; date of birth; photograph; fingerprints; hair color; eye color; height; weight; office of assignment; telephone number; copy of background investigation form; card issue and expiration dates; personal identification number; results of background investigation; PIV request form; PIV registrar approval signature; PIV card serial number; and a list of all persons who possess current identification cards. In addition, for office locations permitting access by proximity cards, numbered proximity cards and a list of all persons with their assigned proximity card numbers, all doors controlled by the proximity cards, and all persons permitted access to each door.

AUTHORITY FOR MAINTENANCE OF SYSTEM:

44 U.S.C. 3101; 41 CFR 101-20.3. 5 U.S.C. 301; Federal Information Security Act (Pub. L. 104-106, 5113); Electronic Government Act (Pub. L. 104-347, 203); Homeland Security Presidential Directive (HSPD) 12, Policy for Common Identification Standard for Federal Employees and Contractors, August 27, 2004; and Office of Personnel Management Memorandum, Final Credentialing Standards for Issuing Personal Identity Verification Cards under HSPD-12, July 31, 2008.

PURPOSE:

These records are maintained for the purpose of ensuring that EEOC offices and information systems are secure and that only authorized individuals have access to those offices and systems.

ROUTINE USES OF RECORDS MAINTAINED IN THE SYSTEM, INCLUDING CATEGORIES OF USERS AND THE PURPOSES OF SUCH USES:

These records and information from these records may be used:

a. To provide information to a congressional office from the record of an individual in response to an inquiry from that congressional office made at the request of that individual.

b. To disclose to other government agencies and to the public whether an individual is a current employee of the EEOC.

c. To disclose information to another federal agency, to a court, or to a party in litigation before a court or in an administrative proceeding being conducted by a federal agency when the government is a party to the judicial or administrative proceeding.

d. To disclose pertinent information to the appropriate federal, state, or local agency responsible for investigating, prosecuting, enforcing, or implementing a statute, rule, regulation, or order, where EEOC becomes aware of an indication of a violation or potential violation of civil or criminal law or regulation.

e. To disclose information to agency contractors who have been engaged to assist the agency in the performance of a contract or other activity related to this system of records and who need to have access to the records in order to perform their activity.

f. To notify another federal agency when, or verify whether, a PIV card is no longer valid.

POLICIES AND PRACTICES FOR STORING, RETRIEVING, ACCESSING, RETAINING, AND DISPOSING OF RECORDS IN THE SYSTEM:

STORAGE:

These records are maintained in paper files and in electronic media.

RETRIEVABILITY:

Records are retrieved by name, social security number, other ID number, PIV card serial number, photograph, or fingerprint.

SAFEGUARDS:

Records are maintained and stored in file cabinets in a secured area to which only authorized personnel have access. Access to electronic records is limited, through use of usernames and passwords, to those whose official duties require access.

RETENTION AND DISPOSAL:

Records are destroyed not later than five years after the separation or transfer of the employee. In accordance with HSPD-12, PIV cards are deactivated within 18 hours of cardholder separation, loss of card, or expiration. The information on PIV cards is maintained in accordance with General Records Schedule 11, Item 4. PIV cards are destroyed by cross-cut shredding no later than 90 days after deactivation.

SYSTEM MANAGER AND ADDRESS:

Director, Operations Services Division, Office of the Chief Human Capital Officer, EEOC, 131 M Street NE., Washington DC 20507, and the Directors of the field offices listed in Appendix A.

NOTIFICATION PROCEDURES:

Inquiries concerning this system of records should be addressed to the system manager. It is necessary to provide the following information: (1) Name; (2) date of birth; and (3) mailing address to which the response is to be sent.

RECORD ACCESS PROCEDURES:

Same as above.

CONTESTING RECORD PROCEDURES:

Same as above.

RECORD SOURCE CATEGORIES:

Information contained in this system is obtained from the employee or contractor; other federal agencies; contract employer; or former employer.

EEOC-14

Reserved

EEOC-15

SYSTEM NAME:

Internal Harassment Inquiries.

SYSTEM LOCATION:

Office of the Chief Human Capital Officer, Equal Employment Opportunity Commission, 131 M Street NE., Washington, DC 20507.

CATEGORIES OF INDIVIDUALS COVERED BY THE SYSTEM:

Current or former EEOC employees, contractors, applicants, interns, and volunteers who have submitted complaints or reports of harassment under EEOC Order 560.005, Prevention and Elimination of Harassment in the Workplace, and current and former EEOC employees, contractors, applicants, interns, and volunteers who have been accused of harassment under that Order.

CATEGORIES OF RECORDS IN THE SYSTEM:

The system contains all documents related to a complaint or report of harassment, including statements of witnesses, reports of interviews, investigator's and Coordinator's findings and recommendations, final decisions and corrective action taken, and related correspondence and exhibits.

AUTHORITY FOR MAINTENANCE OF THE SYSTEM:

29 U.S.C. 633a; 29 U.S.C. 791; 42 U.S.C. 2000e-16; 44 U.S.C. 3101; Exec. Order No. 11478, 34 FR 12985; Exec. Order No. 13087, 63 FR 30097.

PURPOSE:

These records are maintained for the purpose of conducting internal investigations into allegations of harassment brought by current or former EEOC employees, contractors, applicants, interns, and volunteers and taking appropriate action in accordance with EEOC Order 560.005.

ROUTINE USES OF RECORDS MAINTAINED IN THE SYSTEM, INCLUDING CATEGORIES OF USERS AND THE PURPOSES OF SUCH USES:

These records and information in these records may be used:

a. To disclose information as necessary to any source from which additional information is requested in the course of processing a complaint or report of harassment made pursuant to EEOC Order 560.005.

b. To disclose pertinent information to the appropriate federal, state, or local agency responsible for investigating, prosecuting, enforcing, or implementing a statute, rule, regulation, or order, when the EEOC becomes aware of an indication of a violation or potential violation of civil or criminal law or regulation.

c. To disclose information to another federal agency, to a court, or to a party in ligation before a court or in an administrative proceeding being conducted by a federal agency when the government is a party to the judicial or administrative proceeding.

d. To provide information to a congressional office from the record of an individual in response to an inquiry from that congressional office made at the request of that individual.

e. To disclose to an authorized appeal grievance examiner, formal complaints examiner, administrative judge, equal employment opportunity investigator, arbitrator, or other duly authorized official engaged in investigation or settlement of a grievance, complaint, or appeal filed by an employee.

f. To disclose to the individual who filed the complaint or report of harassment and to the alleged harasser the outcome of any inquiry that may have been conducted and of disciplinary and corrective steps taken.

g. To provide to officials of labor organizations recognized under the Civil Service Reform Act information to which they are statutorily entitled when relevant and necessary to their duties of exclusive representation concerning personnel policies, practices, and matters affecting work conditions.

h. To provide to the alleged harasser information in the event of a disciplinary hearing.

POLICIES AND PRACTICES FOR STORING, RETRIEVING, ACCESSING, RETAINING, AND DISPOSING OF RECORDS IN THE SYSTEM:

STORAGE:

These records are maintained in file folders and electronically.

RETRIEVABILITY:

These records are cross-indexed by the name of the individual who files a complaint or report of harassment, the name of the alleged victim of harassment, if any, and the name of the alleged harasser. The records may be retrieved by any of the above three indexes.

SAFEGUARDS:

The records are maintained in locked metal filing cabinets to which only authorized personnel have access. Access to electronic records is limited, through use of logins and passwords, to those whose official duties require access.

RETENTION AND DISPOSAL:

These records are maintained for one year after the complaint or report of harassment is closed and then transferred to the Federal Records Center where they are destroyed after three years.

SYSTEM MANAGER(S) AND ADDRESS:

Harassment Coordinator, Office of Chief Human Capital Officer, EEOC, 131 M Street NE., Washington, DC 20507.

SYSTEM EXEMPTED FROM CERTAIN PROVISIONS OF THE ACT:

This system is exempt under 5 U.S.C. 552a(k)(2) from subsections (c)(3), (d), (e)(1), (e)(4)(G), (e)(4)(H), (e)(4)(I) and (f) of the Act.

EEOC-16

SYSTEM NAME:

Office of Inspector General Investigative Files.

SYSTEM LOCATION:

Office of Inspector General (OIG), Equal Employment Opportunity Commission, 131 M Street NE., Washington, DC 20507.

CATEGORIES OF INDIVIDUALS COVERED BY THE SYSTEM:

Individuals who are subjects of investigations by the Office of Inspector General relating to the programs and operations of the Equal Employment Opportunity Commission. Subject individuals include, but are not limited to, current and former employees; current and former agents or employees of contractors and subcontractors in their personal capacity, where applicable; and other individuals whose actions affect the EEOC, its programs or operations.

CATEGORIES OF RECORDS IN THE SYSTEM:

Correspondence relating to the investigation; internal staff memoranda; copies of subpoenas issued during the investigation, affidavits, statements from witnesses, transcripts of testimony taken during the investigation, and accompanying exhibits; documents, notes, investigative notes, staff working papers, draft materials, and other documents and records relating to the investigation; opening reports, progress reports, and closing reports; video and audio recordings; and other investigatory information or data relating to the alleged or suspected criminal, civil, or administrative violations or similar wrongdoing by subject individuals.

AUTHORITY FOR MAINTENANCE OF THE SYSTEM:

The Inspector General Act of 1978, as amended, 5 U.S.C. App. 3.

PURPOSES:

Pursuant to the Inspector General Act of 1978, as amended, this system of records is maintained for the purpose of: (1) Documenting the conduct and outcome of investigations by the OIG and other investigative agencies regarding EEOC programs and operations; (2) reporting the results of investigations to other Federal agencies, other public authorities or professional organizations which have the authority to bring criminal prosecutions, or civil or administrative actions, or to impose other disciplinary sanctions; (3) maintaining a record of the activities which were the subject of investigations; (4) reporting investigative findings to other components of EEOC for their use in operating and evaluating their programs or operations, and in the imposition of civil or administrative sanctions; (5) coordinating relationships with other Federal agencies, state and local governmental agencies and nongovernmental entities in matters relating to the statutory responsibilities of the OIG; and (6) acting as a repository and source for information necessary to fulfill the reporting requirements of the Inspector General Act, 5 U.S.C. App. 3.

ROUTINE USES OF RECORDS MAINTAINED IN THE SYSTEM, INCLUDING CATEGORIES OF USERS AND PURPOSES OF SUCH USES:

a. To disclose pertinent information to the appropriate federal, state, or local agency responsible for investigating, prosecuting, enforcing, or implementing a statute, rule, regulation or order, where the EEOC becomes aware of an indication of a violation or potential violation of civil or criminal law or regulation.

b. To disclose information to any source, private or governmental, to the extent necessary to secure from such source information relevant to and in furtherance of a legitimate OIG investigation, audit, evaluation, or other inquiry.

c. To disclose information to agencies, offices or establishments of the executive, legislative, or judicial branches of the Federal or state governments:

(1) Where such agency, office, or establishment has an interest in an individual for employment purposes, including a security clearance or determination as to access to classified information, and needs to evaluate the individual's qualifications, suitability, or loyalty to the United States Government, or access to classified information or restricted areas, or

(2) Where such agency, office, or establishment conducts an investigation of the individual for purposes of granting a security clearance, or for making a determination of qualifications, suitability or loyalty to the United States Government, or access to classified information or restricted areas, or

(3) Where the records or information in those records is relevant and necessary to a decision with regard to the hiring or retention of an employee or disciplinary or other administrative action concerning an employee.

d. To disclose information to another federal agency, to a court, or to a party in litigation before a court or in an administrative proceeding being conducted by a federal agency when the government is a party to the judicial or administrative proceeding.

e. To disclose information to a Congressional office from the record of an individual in response to an inquiry from the Congressional office made at the written request of that individual.

f. To private contractors who have been retained by OIG to perform any functions or analyses that facilitate or are relevant to an OIG investigation, audit, inspection, or inquiry.

g. To disclose information to authorized officials of the Council of Inspectors General for Integrity and Efficiency (CIGIE), the Department of Justice, and the Federal Bureau of Investigation for the purpose of conducting qualitative assessment reviews of the Office of Inspector General's investigative operations.

h. To disclose information to authorized officials of the CIGIE for their preparation of reports to the President and Congress on the activities of the Inspectors General.

i. To disclose to an agency, organization or individual for the purpose of performing audit or oversight operations as authorized by law, including peer reviews, but only such information as is necessary and relevant to such audit or oversight operation.”

POLICIES AND PRACTICES FOR STORING, RETRIEVING, ACCESSING, RETAINING, AND DISPOSING OF RECORDS IN THE SYSTEM:

STORAGE:

Information in this system is stored manually in file folders and electronically.

RETRIEVABILITY:

The records are retrieved by the name of the subject of the investigation or by a unique control number assigned to each investigation.

SAFEGUARDS:

Information is stored in locked file cabinets in a secured space. Access to electronic records is limited through the use of logins and passwords to those whose official duties require access.

RETENTION AND DISPOSAL:

Records are held for five (5) years and then retired to the Federal Records Center.

SYSTEM MANAGER AND ADDRESS:

Inspector General, Equal Employment Opportunity Commission, P.O. Box 18858, Washington, DC 20036-8858.

SYSTEM EXEMPTED FROM CERTAIN PROVISIONS OF THE ACT:

Specific: Pursuant to 5 U.S.C. 552a(k)(2) the Office of Inspector General Investigative Files are exempt from subsections (c)(3), (d)(1), (d)(2) and (e)(1) of the Privacy Act.

General: Pursuant to 5 U.S.C. 552a(j)(2), investigatory materials compiled for criminal law enforcement in the Office of Inspector General Investigative Files are exempt from subsections (c)(3), (d)(1), (d)(2), (e)(1), (e)(2), and (e)(3) of the Privacy Act.

EEOC-17

SYSTEM NAME:

Defensive Litigation Files.

SYSTEM LOCATION:

External Defensive Litigation Files are located in the Office of Legal Counsel, Equal Employment Opportunity Commission, 131 M Street NE., Washington, DC 20507. Internal Defensive Litigation Files are located in the Office of General Counsel, Equal Employment Opportunity Commission, 131 M Street NE., Washington, DC 20507.

CATEGORIES OF INDIVIDUALS COVERED BY THE SYSTEM:

Individuals who have filed civil or administrative litigation against EEOC and individuals who have given sworn testimony, affidavits, or declarations under penalty of perjury in such actions. External cases are brought by members of the public; internal cases are brought by applicants, current, and former EEOC employees.

CATEGORIES OF RECORDS IN THE SYSTEM:

This system contains all documents related to external and internal litigation brought against the Commission. These records include:

a. Documents submitted or filed by plaintiffs, grievants, and EEO complainants to prosecute civil or administrative litigation against the EEOC, such as complaints, grievances, unfair labor practice claims, motions, and briefs.

b. Documents submitted by the EEOC to defend the action against it such as an answer to a civil complaint or a motion to dismiss or for summary judgment, and a reply to an administrative EEO complaint, grievance, or unfair labor practice.

c. Administrative determinations at issue in the litigation such as final agency EEO decisions, final grievance decisions, final decisions on personnel actions, final agency administrative dispositions of tort claims, and agency determinations under the Freedom of Information Act.

d. Discovery and investigatory materials such as witness statements, affidavits, declarations under penalty of perjury, correspondence, records, exhibits, and other documentary evidence.

e. Litigation materials, such as attorney work product, attorney notes, hearing transcripts, legal memoranda, and related correspondence and exhibits.

f. Final judgments, orders, decisions, decrees, and settlement agreements.

AUTHORITY FOR MAINTENANCE OF THE SYSTEM:

44 U.S.C. 3101.

PURPOSE:

These records are maintained for the purpose of defending EEOC in litigation brought against it by current and former employees (internal files), charging parties, respondents and members of the public (external files).

ROUTINE USES OF RECORDS MAINTAINED IN THE SYSTEM, INCLUDING CATEGORIES OF USERS AND THE PURPOSES OF SUCH USES:

These records and information in these records may be used:

a. To disclose pertinent information as may be appropriate or necessary for the Commission to defend itself in a civil action or administrative proceeding, or to seek enforcement of a settlement, order, or final decision involving the same or a similar matter.

b. To provide information to a congressional office in response to an inquiry from the congressional office made at the request of a party to the administrative or civil proceeding to which the record pertains.

c. To disclose pertinent information to an appropriate federal court, agency, or administrative body responsible for investigating, prosecuting, enforcing, or implementing a statute, rule, regulation, or order, where the EEOC becomes aware of an indication of a violation or potential violation of civil or criminal law or regulation, or in order to seek enforcement or clarification of an order or decision for or against the EEOC to which the record pertains.

d. To disclose information to another federal agency or to a court when the government is a party to the judicial or administrative proceeding.

e. To disclose, in response to an order, information that is relevant to a pending judicial or administrative proceeding.

POLICIES AND PRACTICES FOR STORING, RETRIEVING, ACCESSING, RETAINING, AND DISPOSING OF RECORDS IN THE SYSTEM:

STORAGE:

External defensive litigation files are maintained in a locked filing system in the Office of Legal Counsel. Internal defensive litigation files are maintained in a locked filing system in the Office of General Counsel. Information identifying existing external and internal defensive litigation files is maintained electronically.

RETRIEVABILITY:

External Defensive Litigation records are cross-indexed by name of the plaintiff, and Office of Legal Counsel reference number. Internal Defensive Litigation records are maintained by name of plaintiff, complainant, grievant, or aggrieved individual, and by Office of General Counsel reference number. The records may be retrieved by either index.

SAFEGUARDS:

External Defensive Litigation paper records maintained at EEOC headquarters are kept in locked cabinets in the Office of Legal Counsel. Internal Defensive Litigation paper records maintained at EEOC headquarters are kept in locked cabinets in the Office of General Counsel. Access to and use of these records is limited to those persons whose official duties require such access. The premises are locked evenings, weekends, and holidays. Paper records which have been retired are maintained at the Federal Records Center. Access to electronic External and Internal Defensive Litigation records is limited through use of passwords to those whose official duties require access, input, and retrieval of information.

RETENTION AND DISPOSAL:

Two years after the date of closure of the underlying civil or administrative action (e.g., final order, decision on appeal), records pertaining to that action are retired to the Federal Records Center. Thereafter, non-permanent files are destroyed six years after the date of closure of the underlying action.

SYSTEM MANAGER(S) AND ADDRESS:

The System Manager for External Defensive Litigation files is the Assistant Legal Counsel, Advice & Litigation Division, Office of Legal Counsel, Equal Employment Opportunity Commission, 131 M Street NE., Washington, DC 20507. The System Manager for Internal Defensive Litigation files is the Assistant General Counsel for Internal Litigation Services, Office of General Counsel, Equal Employment Opportunity Commission, 131 M Street NE., Washington, DC 20507.

NOTIFICATION PROCEDURES:

Any person wanting to know whether this system of records contains information about him or her should contact the System Manager. Such person should provide his or her full name and mailing address to which a response is to be sent, and forum, filing date, and docket number of the action involved, if available.

RECORD ACCESS PROCEDURES:

The records described herein are compiled in reasonable anticipation of a civil action or proceeding. Pursuant to section (d)(5) of the Privacy Act of 1974, as amended, 5 U.S.C. 552a(d)(5), an individual is precluded from access to such records.

CONTESTING RECORDS PROCEDURES:

Same as the Notification Procedures above.

RECORD SOURCE CATEGORIES:

Plaintiffs, grievants, complainants, aggrieved individuals, current and former EEOC employees.

EEOC-18

SYSTEM NAME:

Reasonable Accommodation Records

SYSTEM LOCATION:

Office of the Chief Human Capital Officer, Equal Employment Opportunity Commission, 131 M Street NE., Washington, DC 20507.

CATEGORIES OF INDIVIDUALS COVERED BY THE SYSTEM:

Current and former EEOC employees and applicants who have requested reasonable accommodations under the Rehabilitation Act of 1973.

CATEGORIES OF RECORDS IN THE SYSTEM:

Requests for reasonable accommodations; medical records; notes or records made during consideration of requests; decisions on requests; records made to implement or track decisions on requests.

AUTHORITY FOR MAINTENANCE OF THE SYSTEM:

The Rehabilitation Act of 1973, 29 U.S.C. 791; E.O. 13164.

PURPOSE:

This system is maintained for the purpose of considering, deciding, and implementing requests for reasonable accommodation made by EEOC employees and applicants.

ROUTINE USES OF RECORDS MAINTAINED IN THE SYSTEM, INCLUDING CATEGORIES OF USERS AND THE PURPOSES OF SUCH USES:

a. To disclose information to medical personnel to meet a bona fide medical emergency.

b. To disclose information to another Federal agency, to a court, or to a party in litigation before a court or in an administrative proceeding being conducted by a Federal agency when the Government is a party to the judicial or administrative proceeding.

c. To disclose information to a congressional office from the record of an individual in response to an inquiry from the congressional office made at the request of the individual.

d. To disclose to an authorized appeal grievance examiner, formal complaints examiner, administrative judge, equal employment opportunity investigator, arbitrator, or other duly authorized official engaged in investigation or settlement of a grievance, complaint, or appeal filed by an employee.

POLICIES AND PRACTICES FOR STORING, RETRIEVING, ACCESSING, RETAINING, AND DISPOSING OF RECORDS IN THE SYSTEM:

STORAGE:

Maintained in locked file cabinets and electronically.

RETRIEVABILITY:

Indexed by name of employee or applicant and office location.

SAFEGUARDS:

Files are maintained in locked cabinets. Access is restricted to EEOC personnel whose official duties require such access. Access to computerized records is limited, through use of logins and passwords, to those whose official duties require access.

RETENTION AND DISPOSAL:

These records will be maintained in the Office of the Human Capital Officer for the longer of an employee's tenure with EEOC or 5 years. Thereafter, they will be destroyed.

SYSTEM MANAGER(S) AND ADDRESS:

Disability Program Manager, Office of the Chief Human Capital Officer, Equal Employment Opportunity Commission, 131 M Street NE., Washington, DC 20507.

NOTIFICATION PROCEDURES:

Any person wanting to know whether this system of records contains information about him or her should contact the System Manager. Such person should provide his or her full name, position title and office location at the time the accommodation was requested, and mailing address to which a response is to be sent.

RECORD ACCESS PROCEDURES:

Same as the Notification Procedures above.

CONTESTING RECORDS PROCEDURES:

Same as the Notification Procedures above.

RECORD SOURCE CATEGORIES:

Information contained in this system is obtained from the current or former employee, the Office of the Chief Human Capital Officer, and management officials.

EEOC-19

SYSTEM NAME:

Revolving Fund Registrations.

SYSTEM LOCATION:

Revolving Fund Division, Office of Field Programs, Equal Employment Opportunity Commission, 131 M Street NE., Washington, DC 20507.

CATEGORIES OF INDIVIDUALS COVERED BY THE SYSTEM:

Individuals who register for or attend EEOC Revolving Fund programs, courses and conferences and who purchase publications and products.

CATEGORIES OF RECORDS IN THE SYSTEM:

The system contains the names, job titles, company, organization or agency names, business addresses and phone numbers, email addresses, any reasonable accommodation requested, and attendance or purchase dates. Some of the records may contain payment information, the industry of the company, and the size of the establishment.

AUTHORITY FOR MAINTENANCE OF THE SYSTEM:

42 U.S.C. 2000e-4(k).

PURPOSE(S):

These records are maintained for the purpose of administering Revolving Fund programs and publicizing future programs.

ROUTINE USES OF RECORDS MAINTAINED IN THE SYSTEM, INCLUDING CATEGORIES OF USERS AND THE PURPOSES OF SUCH USES:

These records and information in these records may be used:

a. To send mailings to registrants and attendees advertising future Revolving Fund programs.

b. To provide information to a congressional office from the record of the individual in response to an inquiry from that congressional office made at the request of that individual.

c. To disclose information to another federal agency, to a court, or to a party in litigation before a court or in an administrative proceeding being conducted by a federal agency when the government is a party to the judicial or administrative proceeding.

POLICIES AND PRACTICES FOR STORING, RETRIEVING, ACCESSING, RETAINING, AND DISPOSING OF RECORDS IN THE SYSTEM:

STORAGE:

These records are maintained electronically.

RETRIEVABILITY:

These records are indexed by the names of the registrants or attendees, by company, organization, or agency name.

SAFEGUARDS:

Access to and use of these records is limited, through use of access codes and entry logs, to those whose official duties require access.

RETENTION AND DISPOSAL:

These records are kept indefinitely.

SYSTEM MANAGER AND ADDRESS:

Director, Revolving Fund Division, Office of Field Programs, Equal Employment Opportunity Commission, 131 M Street NE., Washington, DC 20507.

NOTIFICATION PROCEDURE:

Inquiries concerning this system of records should be addressed to the system manager. All inquiries should furnish the full name of the individual and the mailing address to which the reply should be mailed.

RECORD ACCESS PROCEDURES:

Same as above.

CONTESTING RECORDS PROCEDURES:

Same as above.

RECORD SOURCE CATEGORIES:

Information contained in this system is obtained from the registrant or attendee.

EEOC-20

SYSTEM NAME:

RESOLVE Program Records.

SYSTEM LOCATION:

RESOLVE Program, Equal Employment Opportunity Commission, 131 M Street NE., Washington, DC 20507.

CATEGORIES OF INDIVIDUALS COVERED BY THE SYSTEM:

Current and former EEOC employees who request alternative dispute resolution during the counseling or investigative process of their EEO complaints against EEOC, as well as EEOC employees who contact the RESOLVE program for alternative dispute resolution of disputes occurring in their EEOC employment.

CATEGORIES OF RECORDS IN THE SYSTEM:

The system contains the records generated in the course of receiving and attempting to resolve disputes brought to the RESOLVE program, including, as appropriate, intake interview notes, mediation scheduling notices, the mediator's outcome form, and settlement agreements.

AUTHORITY FOR MAINTENANCE OF THE SYSTEM:

5 U.S.C. 571-574; 44 U.S.C. 3101; 29 CFR part 1614.

PURPOSE(S):

These records are maintained for the purpose of administering EEOC's RESOLVE Program, which provides a forum for the informal resolution of a variety of workplace disputes as an alternative to the formal procedures that employees traditionally use to resolve disputes.

ROUTINE USES OF RECORDS MAINTAINED IN THE SYSTEM, INCLUDING CATEGORIES OF USERS AND THE PURPOSES OF SUCH USES:

These records and information in these records may be used:

a. To disclose pertinent information to the appropriate federal, state, or local agency responsible for investigating, prosecuting, enforcing, or implementing a statute, rule, regulation, or order, when the EEOC becomes aware of an indication of a violation or potential violation of civil or criminal law or regulation.

b. To provide information to a congressional office from the record of the individual in response to an inquiry from that congressional office made at the request of that individual.

c. To disclose information to another federal agency, to a court, or to a party in litigation before a court or in an administrative proceeding being conducted by a federal agency when the government is a party to the judicial or administrative proceeding.

POLICIES AND PRACTICES FOR STORING, RETRIEVING, ACCESSING, RETAINING, AND DISPOSING OF RECORDS IN THE SYSTEM:

STORAGE:

These records are maintained in file folders and electronically.

RETRIEVABILITY:

These records are indexed by the names of the employee.

SAFEGUARDS:

The records are maintained in locked metal filing cabinets to which only authorized personnel have access. Access to and use of electronic records is limited, through use of logins and passwords, to those whose official duties require access.

RETENTION AND DISPOSAL:

These records are maintained for one year after the complaint or dispute matter brought to RESOLVE is closed and then transferred to the Federal Records Center where they are destroyed after three years.

SYSTEM MANAGER AND ADDRESS:

Chief Mediation Officer, Equal Employment Opportunity Commission, 131 M Street NE., Washington, DC 20507.

NOTIFICATION PROCEDURE:

Inquiries concerning this system of records should be addressed to the system manager. All inquiries should furnish the full name of the individual and the mailing address to which the reply should be mailed.

RECORD ACCESS PROCEDURES:

Same as above.

CONTESTING RECORDS PROCEDURES:

Same as above.

RECORD SOURCE CATEGORIES:

Information contained in this system is obtained from the current or former employee, the Office of Equal Opportunity, the Office of the Chief Human Capital Officer, management officials, union officials, and the mediator.

EEOC-21

SYSTEM NAME:

Emergency Management Records.

SYSTEM LOCATION:

Headquarters, District, Field, Area, and Local Offices may maintain emergency contact files. The Office of the Chief Financial Officer maintains emergency management and continuity of operations (COOP) files. The Office of the Chief Human Capital Officer maintains the orders of succession, which are part of the COOP files.

CATEGORIES OF INDIVIDUALS COVERED BY THE SYSTEM:

EEOC employees, contractors, and other governmental and non-governmental persons essential to carrying out emergency activities.

CATEGORIES OF RECORDS IN THE SYSTEM:

The records, composed of emergency notification rosters and files, emergency contact information, and COOP files, may contain the following personal information: Name; office, cellular and home telephone numbers; home address; email address; primary contact name, relationship, address, cellular, work and home telephone numbers; alternate contact's name, relationship, address, cellular, work and home telephone numbers. Each office may collect a different set of information. System records may include special needs information such as medical, mobility, and transportation requirements for individuals. Additional information may include official titles and emergency assignments.

AUTHORITY FOR MAINTENANCE OF THE SYSTEM:

5 U.S.C. 301; 44 U.S.C. 3101; Executive Order 12565, Assignment of Emergency Preparedness Responsibilities, (Nov. 18, 1989); Presidential Decision Directive 67, Ensuring Constitutional Government and Continuity of Government Operations.

PURPOSE:

To maintain current information on EEOC employees and other persons covered by this system to allow persons with emergency management responsibilities to notify or contact them about conditions that require their urgent assistance or attention during an emergency.

ROUTINE USES OF RECORDS MAINTAINED IN THE SYSTEM, INCLUDING CATEGORIES OF USERS AND THE PURPOSES OF SUCH USES:

These records and information in these records may be used:

a. To disclose pertinent information to the appropriate federal, state, or local agency responsible for investigating, prosecuting, enforcing, or implementing a statute, rule, regulation, or order, where EEOC becomes aware of an indication of a violation or potential violation of civil or criminal law or regulation.

b. To disclose information to a congressional office from the record of an individual in response to an inquiry from the congressional office made at the request of the individual.

c. To disclose information to an expert, consultant or contractor in the performance of a federal government duty involving EEOC emergency management.

d. To disclose information about an individual during an emergency in order to locate or contact that individual.

POLICIES AND PRACTICES FOR STORING, RETRIEVING, ACCESSING, RETAINING, AND DISPOSING OF RECORDS IN THE SYSTEM:

STORAGE:

These records are maintained in paper files and in electronic media.

RETRIEVABILITY:

Records are retrieved by name, organization, or location.

SAFEGUARDS:

Records are maintained and stored in file cabinets in a secured area to which only authorized personnel have access. Access to electronic records is limited through use of logins and passwords for those whose official duties require access.

RETENTION AND DISPOSAL:

Records are destroyed one year after termination of the employment relationship or contract termination.

SYSTEM MANAGER(S) AND ADDRESS:

Headquarters, District, Field, Area, and Local Office Directors. Addresses listed in Appendix A.

NOTIFICATION PROCEDURES:

Inquiries concerning this system of records should be made to the system manager. It is necessary to provide the name of the individual and the mailing address to which the response should be sent.

RECORD ACCESS PROCEDURES:

Same as above.

CONTESTING RECORD PROCEDURES:

Same as above.

RECORD SOURCE CATEGORIES:

Information in this system is obtained from the individuals themselves, their supervisors or office.

EEOC-22

SYSTEM NAME:

EEOC Personnel Security Files.

SYSTEM LOCATION:

Office of the Chief Human Capital Officer, Operations Services Division, Equal Employment Opportunity Commission, 131 M Street NE., Washington, DC 20507.

CATEGORIES OF INDIVIDUALS COVERED BY THE SYSTEM:

EEOC employees, applicants, former employees, interns, volunteers, and contractors.

CATEGORIES OF RECORDS IN THE SYSTEM:

Name, former names, birth date, birth place, social security number, home address, telephone numbers, employment history, residential history, education and degrees earned, names of associates and references and their contact information, citizenship, names of relatives, citizenship of relatives, names of relatives who work for the federal government, criminal history, drug use, financial information, fingerprints, summary report of investigation, results of suitability decisions, requests for appeal, witness statements, investigator's notes, tax return information, credit reports, security violations (including circumstances of violation and agency action taken).

AUTHORITY FOR MAINTENANCE OF THE SYSTEM:

5 U.S.C. 3101; 5 CFR parts 731, 732, and 736; Executive Orders 10450, 10865, 12333, 12356, and 13467; Homeland Security Presidential Directive 12 (HSPD 12), Policy for a Common Identification Standard for Federal Employees and Contractors, August 27, 2004; and Office of Personnel Management Memorandum, Final Credentialing Standards for Issuing Personal Identity Verification Cards under HSPD-12, July 31, 2008.

PURPOSE:

The records in this system are used to document and support decisions regarding the suitability, eligibility, and fitness for service of applicants for EEOC employment and contract positions, including criminal background screening for interns, or volunteers, to the extent their duties require access to federal facilities, information, systems, or applications. The records may be used to document security violations and supervisory actions taken.

ROUTINE USES OF RECORDS MAINTAINED IN THE SYSTEM, INCLUDING CATEGORIES OF USERS AND THE PURPOSES OF SUCH USES:

a. To provide information to a congressional office from the record of an individual in response to an inquiry from the congressional office made at the request of the individual.

b. Except as noted on Standard Forms 85, 85P, and 86, to disclose pertinent information to the appropriate federal, state, or local agency responsible for investigating, prosecuting, enforcing, or implementing a statute, rule, regulation, or order, where EEOC becomes aware of an indication of a violation or potential violation of civil or criminal law or regulation.

c. To disclose information to another federal agency, to a court, or to a party in litigation before a court or in an administrative proceeding being conducted by a federal agency when the government is a party to the judicial or administrative proceeding.

d. To disclose information to any source or potential source from which information is requested in the course of an investigation concerning the retention of an employee or other personnel action (other than hiring), to the extent necessary to identify the individual, inform the source of the nature and purpose of the investigation, and to identify the type of information requested.

e. To disclose information to employees of contractors who have been engaged by EEOC to perform an activity related to suitability, eligibility, and fitness for service of EEOC applicants and employees.

POLICIES AND PRACTICE FOR STORING, RETRIEVING, ACCESSING, RETAINING, AND DISPOSING OF RECORDS IN THE SYSTEM:

STORAGE:

These records are maintained in paper files and in electronic media.

RETRIEVABILITY:

Background investigation files are retrieved by name, social security number, or fingerprint.

SAFEGUARDS:

Records are maintained and stored in file cabinets in a secured area to which only authorized personnel have access. Access to electronic records is limited through use of logins and passwords to those whose official duties require access.

RETENTION AND DISPOSAL:

These records are destroyed upon notification of death or not later than five years after separation or transfer of employee to another agency or department.

SYSTEM MANAGER AND ADDRESS:

Director, Operations Services Division, Office of the Chief Human Capital Officer, EEOC, 131 M Street NE., Washington, DC 20507.

NOTIFICATION PROCEDURE:

Inquiries concerning this system of records should be addressed to the system manager. It is necessary to provide the following information: (1) Name; (2) date of birth; and (3) mailing address to which response is to be sent.

RECORDS ACCESS PROCEDURES:

Same as above.

CONTESTING RECORD PROCEDURES:

Same as above.

RECORD SOURCE CATEGORIES:

Information is obtained from a variety of sources, including the employee, contractor or applicant via use of the SF-85, SF-85P, or SF-86 and personal interviews; employers' and former employers' records; FBI criminal history records and other databases; financial institutions and credit reports; interviews of witnesses, such as neighbors, friends, co-workers, business associates, teachers, landlords, or family members; tax records; and other public records. Security violation information is obtained from a variety of sources, such as guard reports, security inspections, witnesses, supervisor's reports, audit reports.

SYSTEMS EXEMPTED FROM CERTAIN PROVISIONS OF THE PRIVACY ACT:

This system of records is exempt in accordance with 5 U.S.C. 552a(k)(5) from subsection (c)(3) and (d)(1) of the Privacy Act, but only to the extent that the information identifies witnesses promised confidentiality as a condition of providing information during the course of the background investigation.

EEOC/GOVT-1

SYSTEM NAME:

Equal Employment Opportunity (EEO) in the Federal Government Complaint and Appeal Records.

SYSTEM LOCATION:

Equal employment opportunity complaint files are maintained in an Office of Equal Employment Opportunity or other designated office of the agency or department where the complaint was filed. EEO hearing records are maintained in the EEOC office in the field that handles the hearing request (See Appendix A). EEO Appeal files (including appeals from final negotiated grievance decisions involving allegations of discrimination) and petitions for review of decisions of the Merit Systems Protection Board are maintained in the Office of Federal Operations, Equal Employment Opportunity Commission, 131 M St. NE., Washington, DC 20507. Applicants for federal employment and current and former federal employees who contact an EEO counselor, file complaints of discrimination or reprisal with their agency, file requests for hearings, or file appeals of EEO complaints, petitions for review of decisions of the Merit Systems Protection Board, or appeals of final decisions in negotiated grievance actions involving allegations of discrimination.

CATEGORIES OF RECORDS IN THE SYSTEM:

This system of records contains information or documents compiled during the pre-complaint counseling, investigation, hearing, and appeal of complaints filed under section 717 of Title VII, section 15 of the Age Discrimination in Employment Act, section 501 of the Rehabilitation Act, and the Equal Pay Act and all appeals.

AUTHORITY FOR MAINTENANCE OF SYSTEM:

42 U.S.C. 2000e-16(b) and (c); 29 U.S.C. 204(f) and 206(d); 29 U.S.C. 633(a); 29 U.S.C. 791; Reorg. Plan No. 1 of 1978, 43 FR 19607 (May 9, 1978); Exec. Order No. 12106, 44 FR 1053 (Jan. 3, 1979).

PURPOSE:

These records are maintained for the purpose of counseling, investigating, and adjudicating complaints of employment discrimination brought by applicants and current and former federal employees against federal employers.

ROUTINE USES OF RECORDS MAINTAINED IN THE SYSTEM, INCLUDING CATEGORIES OF USERS AND THE PURPOSES OF SUCH USES:

These records and information in these records may be used:

a. To disclose pertinent information to the appropriate federal, state, or local agency responsible for investigating, prosecuting, enforcing, or implementing a statute, rule, regulation, or order, where the disclosing agency becomes aware of an indication of a violation or potential violation of civil or criminal law or regulation.

b. To disclose information to another federal agency, to a court, or to a party in litigation before a court or in an administrative proceeding being conducted by a federal agency when the government is a party to the judicial or administrative proceeding.

c. To provide information to a congressional office from the record of an individual in response to an inquiry from that congressional office made at the request of that individual.

d. To disclose to an authorized appeal grievance examiner, formal complaints examiner, administrative judge, equal employment opportunity investigator, arbitrator, or other duly authorized official engaged in investigation or settlement of a grievance, complaint, or appeal filed by an employee.

e. To disclose, in response to a request for discovery or for appearance of a witness, information that is relevant to the subject matter involved in a pending judicial or administrative proceeding.

f. To disclose information to officials of state or local bar associations or disciplinary boards or committees when they are investigating complaints against attorneys in connection with their representation of a party before EEOC.

g. To disclose to a Federal agency in the executive, legislative, or judicial branch of government, in response to its request for information in connection with the hiring of an employee, the issuance of a security clearance, the conducting of a security or suitability investigation of an individual, the classifying of jobs, or the lawful statutory, administrative, or investigative purpose of the agency to the extent that the information is relevant and necessary to the requesting agency's decision.

h. To disclose information to employees of contractors engaged by an agency to carry out the agency's responsibilities under 29 CFR part 1614.

i. To disclose information to potential witnesses as appropriate and necessary to perform the agency's functions under 29 CFR part 1614.

POLICIES AND PRACTICES FOR STORING, RETRIEVING, ACCESSING, RETAINING, AND DISPOSING OF RECORDS IN THE SYSTEM:

STORAGE:

These records are maintained in file folders and electronically.

RETRIEVABILITY:

These records are indexed by the names of the individuals on whom they are maintained.

SAFEGUARDS:

Access to and use of these records are limited to those persons whose official duties require such access.

RETENTION AND DISPOSAL:

These records are maintained for one year after resolution of the case and then transferred to the Federal Records Center where they are destroyed after three years.

SYSTEM MANAGER(S) AND ADDRESS:

Within the agency or department where the complaint of discrimination was filed, the system manager is the Director of the Office of Equal Employment Opportunity or other official designated as responsible for the administration and enforcement of equal employment opportunity laws and regulations within the agency or department.

Where an individual has requested a hearing, the system manager of hearing records is the Director of the Office of Field Programs, 131 M Street NE., Washington, DC 20507.

Where an EEO complaint or final negotiated grievance decision has been appealed to EEOC or an individual has petitioned EEOC for review of a decision of the Merit Systems Protection Board, the system manager of the appeal or petition file is the Director, Office of Federal Operations, 131 M Street NE., Washington, DC

SYSTEMS EXEMPTED FROM CERTAIN PROVISIONS OF THE ACT:

Pursuant to subsection (k)(2) of the Privacy Act, 5 U.S.C. 552a(k)(2), this system of records is exempt from subsections (c)(3), (d), (e)(1), (e)(4)(G), (e)(4)(H), (e)(4)(I) and (f) of the Act.

Appendix A

U.S. EEOC Albuquerque Area Office, 505 Marquette Avenue NW., Suite 900—9th Floor, Albuquerque, New Mexico 87102-2158

U.S. EEOC Atlanta District Office, Sam Nunn Atlanta Federal Center, 100 Alabama Street SW., Suite 4R30, Atlanta, Georgia 30303

U.S. EEOC Baltimore Field Office, City Crescent Building, 10 South Howard Street, 3rd Floor, Baltimore, Maryland 21201-2526

U.S. EEOC Birmingham District Office, Ridge Park Place, 1130 22nd Street, Suite 2000, Birmingham, Alabama 35205

U.S. EEOC Boston Area Office, John F. Kennedy Fed Bldg., 475 Government Center, Boston, Massachusetts 02203

U.S. EEOC Buffalo Local Office, 6 Fountain Plaza, Suite 350, Buffalo, New York 14202

U.S. EEOC Charlotte District Office, 129 West Trade Street, Suite 400, Charlotte, North Carolina 28202

U.S. EEOC Chicago District Office, 500 West Madison Street, Suite 2000, Chicago, Illinois 60661

U.S. EEOC Cincinnati Area Office, John W. Peck Fed. Office Bldg., 550 Main Street, 10th Floor, Cincinnati, Ohio 45202

U.S. EEOC Cleveland Field Office, Anthony J. Celebrezze Fed. Bldg., 1240 E. 9th Street, Suite 3001, Cleveland, Ohio 44199

U.S. EEOC Dallas District Office, 207 South Houston Street, 3rd Floor, Dallas, Texas 75202-4726

U.S. EEOC Denver Field Office, 303 East 17th Avenue, Suite 510, Denver, Colorado 80203

U.S. EEOC Detroit Field Office, Patrick V. McNamara Bldg., 477 Michigan Avenue, Room 865, Detroit, Michigan 48226-9704

U.S. EEOC El Paso Area Office, 300 E. Main Dr., Suite 500, El Paso, Texas 79901

U.S. EEOC Fresno Local Office, 2300 Tulare Street, Suite 215, Fresno, California 93727

U.S. EEOC Greensboro Local Office, 2303 W. Meadowview Road, Suite 201, Greensboro, North Carolina 27407

U.S. EEOC Greenvile Local Office, 301 North Main Street, Suite 1402, Greenville, South Carolina 29601

U.S. EEOC Honolulu Local Office, 300 Ala Moana Boulevard, Room 7-127, P.O. Box 50082, Honolulu, Hawaii 96850-0051

U.S. EEOC Houston District Office, Mickey Leland Bldg., 1919 Smith Street, 6th Floor, Houston, Texas 77002

U.S. EEOC Indianapolis District Office, 101 West Ohio Street, Suite 1900, Indianapolis, Indiana 46204-4203

U.S. EEOC Jackson Area Office, Dr. A. H. McCoy Fed. Bldg., 100 West Capitol Street, Suite 338, Jackson, Mississippi 39269

U.S. EEOC Kansas City Area Office, Gateway Tower II, 400 State Avenue, Suite 905, Kansas City, Kansas 66101

U.S. EEOC Little Rock Area Office, 820 Louiaina Street, Suite 200, Little Rock, Arkansas 72201

U.S. EEOC Los Angeles District Office, Roybal Fed. Bldg., 255 East Temple Street, 4th Floor, Los Angeles, California 90012

U.S. EEOC Las Vegas Local Office, 333 Las Vegas Boulevard South, Suite 8112, Las Vegas, Nevada 89101

U.S. EEOC Louisville Area Office, 600 Dr. Martin Luther King Jr., Place, Suite 268, Louisville, Kentucky 40202

U.S. EEOC Memphis District Office, 1407 Union Avenue, 9th Floor, Memphis, Tennessee 38104

U.S. EEOC Miami District Office, 100 SE 2nd Street, Suite 1500, Miami, Florida 33131

U.S. EEOC Milwaukee District Office, Reuss Fed. Plaza, 310 West Wisconsin Avenue, Suite 500, Milwaukee, Wisconsin 53203-2292

U.S. EEOC Minneapolis Area Office, Towle Bldg., 330 South Second Avenue, Suite 720, Minneapolis, Minnesota 55401-2224

U.S. EEOC Mobile Local Office, 63 South Royal Street, Suite 504, Mobile, Alabama 36602

U.S. EEOC Nashville Area Office, 220 Athens Way, Suite 350, Nashville, Tennessee 37228-9940

U.S. EEOC Newark Area Office, Two Gateway Center, Suite 1703, 283-299 Market Street, Newark, New Jersey 07102

EEOC New Orleans District Office, Hale Boggs Fed. Bldg., 500 Poydras Street, Suite 809, New Orleans, Louisiana 70130

U.S. EEOC New York District Office, 33 Whitehall Street, 5th Floor, New York, New York 10004

U.S. EEOC Norfolk Local Office, Federal Building, Suite 739, 200 Granby Street, Norfolk, Virginia 23510

U.S. EEOC Oakland Local Office, 1301 Clay Street, Suite 1170-N, Oakland, California 94612-5217

U.S. EEOC Oklahoma City Area Office, 215 Dean A McGee Avenue, Oklahoma City, Oklahoma 73102

U.S. EEOC Philadelphia District Office, 801 Market Street, Suite 1300, Philadelphia, Pennsylvania 19107

U.S. EEOC Phoenix District Office, 3300 North Central Avenue, Suite 690, Phoenix, Arizona 85012-2504

U.S. EEOC Pittsburgh Area Office, William S. Moorhead Fed. Bldg., 1001 Liberty Avenue, Suite 1112, Pittsburgh, Pennsylvania 15222-4187

U.S. EEOC Raleigh Area Office, 434 Fayetteville Street, Suite 700, Raleigh, North Carolina 27601-1701

U.S. EEOC Richmond Local Office, 400 N. Eight Street, Suite 350, Richmond, Virginia 23219

EEOC San Antonio Field Office, Legacy Oaks, Bldg. A, 5410 Fredericksburg Road, Suite 200, San Antonio, Texas 78229-3555

U.S. EEOC San Diego Local Office, 555 West Beech Street, Suite 504, San Diego, California 92101

U.S. EEOC San Francisco District Office, 450 Golden Gate Avenue, 5 West, P.O. Box 36025, San Francisco, California 94102

U.S. EEOC San Jose Local Office, 96 North 3rd Street, Suite 250, San Jose, California 95112

U.S. EEOC San Juan Local Office, 525 F.D. Roosevelt Avenue, Plaza Las Americas, Suite 1202, San Juan, Puerto Rico 00918-8001

U.S. EEOC Savannah Local Office, 7391 Hodgson Memorial Drive, Suite 200, Savannah, Georgia 31406-2579

U.S. EEOC Seattle Field Office, Federal Office Building, 909 First Avenue, Suite 400, Seattle, Washington 98104-1061

U.S. EEOC St. Louis District Office, Robert A. Young Building, 1222 Spruce Street, Room 8.100, St. Louis, Missouri 63103

U.S. EEOC Tampa Field Office, 501 East Polk Street, Suite 1000, Tampa, Florida 33602

U.S. EEOC Washington Field Office, 131 M Street NE., Fourth Floor, Suite 4NWO2F, Washington, DC 20507-0100

[FR Doc. 2016-27702 Filed 11-16-16; 8:45 am]

BILLING CODE 6570-01-P